DEPARTMENT OF TRANSPORTATION

Office of the Secretary of Transportation

Notice of Funding Opportunity for the Department of Transportation's Multimodal Project Discretionary Grant Opportunity

AGENCY: Office of the Secretary of Transportation, U.S. Department of Transportation.

ACTION: Notice of Funding Opportunity (NOFO).

Multimodal Project Discretionary Grant Opportunity (MPDG)

SUMMARY: The purpose of this notice is to solicit applications for three funding opportunities: The National Infrastructure Project Assistance grants program (Mega), the Nationally Significant Multimodal Freight and Highways Projects grants program (INFRA), and the Rural Surface Transportation Grant program (Rural). While applicants can choose to apply for only one grant program, this combined solicitation will allow applicants to apply for two, or all three of these funding opportunities by submitting only one application. It also aims to better enable the Department to proactively assist project sponsors in matching projects with the most appropriate grant program(s) and facilitate individual projects in potentially receiving funding from multiple grant programs. Funds for the INFRA, Mega, and Rural funding opportunities will be awarded on a competitive basis for surface transportation infrastructure projects—including highway and bridge, intercity passenger rail, railway-highway grade crossing or separation, wildlife crossing, public transportation, marine highway, and freight projects, or groups of such projects—with significant national or regional impact, or to improve and expand the surface transportation infrastructure in rural areas.

DATES: Applications must be submitted by 11:59 p.m. EDT on May 23, 2022. The Grants.gov “Apply” function will open by March 25, 2022.

ADDRESSES: Applications must be submitted through www.Grants.gov. Only applicants who comply with all submission requirements described in this notice and submit applications through www.Grants.gov on or before the application deadline will be eligible for award.

FOR FURTHER INFORMATION CONTACT: For further information regarding this notice, please contact the Office of the Secretary via email at MPDGrants@dot.gov, or call Paul Baumer at (202) 366-1092. A TDD is available for individuals who are deaf or hard of hearing at 202-366-3993. In addition, up to the application deadline, the U.S. Department of Transportation (Department) will post answers to common questions and requests for clarifications on the Department's website at https://www.transportation.gov/grants/mpdg-frequently-asked-questions.

SUPPLEMENTARY INFORMATION: The organization of this notice is based on an outline set forth in Appendix I to title 2 of the Code of Federal Regulations (CFR) part 200 to ensure consistency across Federal financial assistance programs. However, that format is designed for locating specific information, not for linear reading. For readers seeking to familiarize themselves with how the Multimodal Project Discretionary Grant (MPDG) combined application process will work, the Department recommends starting with Section A (Program Description), which describes the Department's goals for the MPDG common application and purpose in making awards, and Section E (Application Review Information), which describes how the Department will select among eligible applications for each of the three funding opportunities. Those two sections will provide appropriate context for the remainder of the notice: Section B (Federal Award Information) describes information about the size and nature of awards; Section C (Eligibility Information) describes eligibility requirements for applicants and projects; Section D (Application and Submission Information) describes in detail how to apply for an award; Section F (Federal Award Administration Information) describes legal requirements that will accompany awards; and Sections G (Federal Awarding Agency Contacts) and H (Other Information) provide additional administrative information.

Table of Contents

A. Program Description

1. Overview

2. Changes From the FY 2021 INFRA NOFO

3. Additional Information

B. Federal Award Information

1. Amount Available

C. Eligibility Information

1. Eligible Applicants

2. Cost Sharing or Matching

3. Eligible Projects

4. Eligible Project Costs

5. Project Requirements

6. Definition of Rural and Urban Areas

7. Areas of Persistent Poverty and Historically Disadvantaged Communities

8. Project Components

9. Network of Projects

10. Application Limit

D. Application and Submission Information

1. Address

2. Content and Form of Application

3. Unique Entity Identifier and System for Award Management (SAM)

4. Submission Dates and Timelines

5. Funding Restrictions

6. Other Submission Requirements

E. Application Review Information

1. Criteria

i. Overall Application Rating

ii. Project Outcome Criteria

iii. Benefit-Cost Analysis Rating

iv. Project Readiness Rating

v. Additional Considerations

vi. Previous Awards

2. Review and Selection Process

3. Additional Information

F. Federal Award Administration Information

1. Federal Award Notices

2. Administrative and National Policy Requirements

3. Reporting

G. Federal Awarding Agency Contacts

H. Other Information

1. Protection of Confidential Business Information

2. Publication of Application Information

3. Department Feedback on Applications

4. MPDG Extra, Eligibility, and Designation

A. Program Description

1. Overview

The Multimodal Project Discretionary Grant common application (MPDG) provides Federal financial assistance to highway and bridge, intercity passenger rail, railway-highway grade and separation, wildlife crossing, public transportation, marine highway, and freight and multimodal projects, or groups of such projects, of national or regional significance, as well as to projects to improve and expand the surface transportation infrastructure in rural areas. Infrastructure Investment and Jobs Act (Pub. L. 117-58, November 15, 2021) (Bipartisan Infrastructure Law, or BIL) provided funds to the Department across three programs to invest in projects of national or regional significance—the National Infrastructure Project Assistance grants program, found under 49 U.S.C. 6701 (Mega), the Nationally Significant Multimodal Freight and Highways Projects grants program, found at 23 U.S.C. 117 (Infrastructure for Rebuilding America or INFRA), and the Rural Surface Transportation Grant program, found at 23 U.S.C. 173 (Rural). To help streamline the process for applicants, the Department has combined the applications for the Mega, INFRA, and Rural programs into the MPDG common application. Applicants may choose to apply to one, two, or all three of these grant programs.) The Fiscal Year (FY) 2022 MPDG awards will be made for each of the three grant programs as appropriate and consistent with each grant program's statutory language. The FY 2022 MPDG round will be implemented, as appropriate and consistent with law, in alignment with the priorities in Executive Order 14052, Implementation of the Infrastructure Investment and Jobs Act (86 FR 64355),¹ and will focus on supporting projects that improve safety, economic strength and global competitiveness, equity, and climate and sustainability consistent with the Department's strategic goals.

¹ The priorities of Executive Order 14052, Implementation of the Infrastructure Investments and Jobs Act are: To invest efficiently and equitably, promote the competitiveness of the U.S. economy, improve job opportunities by focusing on high labor standards and equal employment opportunity, strengthen infrastructure resilience to all hazards including climate change, and to effectively coordinate with State, local, Tribal, and territorial government partners.

Applicants are encouraged to apply for multiple programs, to maximize their potential of receiving Federal support. Applicants for the MPDG will be considered across all three programs unless they opt out. To support applicants through the application process, the Department will provide technical assistance and resources.²

² For Technical Assistance for projects in rural areas, visit https://www.transportation.gov/rural.

The Department seeks to fund projects under the MPDG common application that reduce greenhouse gas emissions and are designed with specific elements to address climate change impacts. Section E provides more information on the specific measures a project may undertake to support these goals.

The Department also seeks to award projects under the MPDG common application that address environmental justice, particularly for communities (including rural communities) that may disproportionately experience consequences from climate change and other pollutants. Environmental justice, as defined by the Environmental Protection Agency, is the fair treatment and meaningful involvement of all people regardless of race, color, national origin, or income, with respect to the development, implementation, and enforcement of environmental laws, regulations, and policies. As part of the Department's implementation of Executive Order 14008, Tackling the Climate Crisis at Home and Abroad (86 FR 7619), the Department seeks to fund projects that, to the extent possible, target at least 40 percent of resources and benefits towards low-income communities, disadvantaged communities, communities underserved by affordable transportation, or overburdened communities. Projects that have not sufficiently considered climate change and environmental justice in their planning, as determined by the Department, will be required to do so before receiving funds for construction. See Section F.2 of this Notice of Funding Opportunity (NOFO) for program requirements.

The Department also seeks to award projects under the MPDG common application that proactively address equity and barriers to opportunity, including automobile dependence as a form of barrier, or redress prior inequities and barriers to opportunity. Section E describes equity considerations that an applicant can undertake and the Department will consider during the review of applications. Projects that have not sufficiently considered equity and barriers to opportunity in their planning, as determined by the Department, will be required to do so before receiving funds for construction. All projects must comply with Federal civil rights requirements. See Section F.2 of this NOFO for program requirements.

In addition, the Department intends to use the MPDG opportunity to support the creation of good-paying jobs with the free and fair choice to join a union and the incorporation of strong labor standards and workforce programs, in particular registered apprenticeships, labor management partnerships and Local Hire agreements,³ in project planning stages and program delivery. Projects that incorporate such planning considerations are expected to support a strong economy and labor market. Section E describes job creation and labor considerations an applicant can undertake and that the Department will consider during the review of applications. Projects that have not sufficiently considered job creation and labor considerations in their planning, as determined by the Department, will be required to do so to the full extent possible under the law before receiving funds for construction. See Section F.2 of this NOFO for program requirements.

³ Contracts awarded with geographic hiring preferences are eligible for assistance under most Department financial assistance programs.

Section E of this NOFO describes the process for selecting projects that further these goals under each of the three grant programs. Section F.3 describes progress and performance reporting requirements for selected projects, including the relationship between that reporting and the program's selection criteria.

Consistent with the Department's Rural Opportunities to Use Transportation for Economic Success (ROUTES) initiative, the Department seeks to award funding to rural projects that address deteriorating conditions and disproportionately high fatality rates and transportation costs in rural communities.

2. Changes From the FY 2021 INFRA NOFO

Of the three programs in the MPDG opportunity, INFRA is the only program that existed in FY2021, while the Rural and Mega are new programs created by the Bipartisan Infrastructure Law. Applicants who are planning to reapply using materials prepared for prior competitions should ensure that their FY 2022 application fully addresses the criteria and considerations described in this notice and that all relevant information is up to date.

The FY 2022 INFRA program will be evaluated under common project outcome criteria (formally labeled in FY 2021 as “merit criteria”) that apply to all three programs within the MPDG opportunity, as described in Section E. The FY 2022 MPDG opportunity's common project outcome criteria will not consider the Performance and Accountability criterion from INFRA 2021. Instead, the Department will utilize standard approaches to monitoring project performance and ensuring projects are delivered efficiently. Leverage of non-Federal funds contribution, or “leverage,” will now be assessed within the Innovation criterion and for the separate INFRA FY 2022 Leverage pilot set-aside. The Leverage pilot set-aside is described in further detail in Section B.2.ii.

The BIL expanded INFRA eligibility to include wildlife crossing projects; marine highway corridor projects; highway, bridge, or freight projects carried out on the National Multimodal Freight Network; ⁴ surface transportation projects located within or functionally connected to an international border crossing; and transportation facilities owned by a Federal, State, or local government entity.

⁴ DOT has not yet designated an National Multimodal Freight Network. Any project relying on being on the National Multimodal Freight Network as their sole basis for eligibility may be considered higher risk.

3. Additional Information

This common application process will result in grants being awarded under three funding programs. The Mega program is authorized at 49 U.S.C. 6701. The INFRA program is authorized at 23 U.S.C. 117. The Rural program is authorized at 23 U.S.C. 173. They are described respectively in the Federal Assistance Listings under the assistance listing program titles “National Infrastructure Project Assistance” (assistance listing number 20.937), “Nationally Significant Freight and Highway Projects” (assistance listing number 20.934), and “Rural Surface Transportation Grant Program” (assistance listing number 20.938).

The Department is committed to considering project funding decisions holistically among the various discretionary grant programs available in BIL. The Department also recognizes that applicants may be seeking funding from multiple discretionary grant programs and opportunities. An applicant may seek the same award amounts from multiple Department discretionary opportunities or seek a combination of funding from multiple Department opportunities. The applicant should identify describe from any other Department programs and opportunities they intend to apply for (or utilize if the Federal funding is already available to the applicant), and what award amounts they will be seeking, in the appropriate sections including Sections D.2.i. and D.2.ii.IV.

B. Federal Award Information

1. Amount Available

The BIL makes available up to $5 billion for the Mega program for the period of FY 2022 through 2026; up to $8 billion to the INFRA program for the period of FY 2022 through 2026; and up to $2 billion for the Rural program for the period of FY 2022 through 2026, for a combined total of up to $15 billion for FY 2022 through 2026. This notice solicits applications for up to $2.85 billion in FY 2022 MPDG opportunity funds. Up to $1 billion will be made available for the Mega program, up to $1.55 billion will be made available for the INFRA program, and up to $300 million will be made available for the Rural funding opportunities program. In addition to the FY 2022 funding, the Department may make award decisions in the MPDG FY 2022 round to fund Mega project awards in future fiscal years, based on a potential awarded project's schedule and availability of funding.⁵ In addition to the FY 2022 funds, amounts from prior year INFRA authorizations, presently estimated at up to $150 million, may be made available and awarded under this solicitation. Any award under this notice will be subject to the availability of funding. Mega, INFRA, and the Rural program each have their own specific funding restrictions, including award size and types of projects. Refer to Section D.5 for greater detail on funding restrictions for each program.

⁵ 49 U.S.C. 6701(j) authorizes the Department to enter multiyear grant agreements for Mega projects. Those agreements may include a commitment, contingent on amounts to be specified in law in advance for such commitments, to provide future year funds.

C. Eligibility Information

To be selected for a grant, an applicant must be an Eligible Applicant and the project must be an Eligible Project that meets the minimum project size requirement.

1. Eligible Applicants

Each of the three funding opportunities has slightly different statutory rules for what kinds of applicants are eligible to apply. Applicants should review this section in determining for which of the three programs they are applying.

Eligible Applicants
Mega | INFRA | Rural
1. a State or a group of States; | 1. a State or group of States; | 1. a State;
2. a metropolitan planning organization; 3. a unit of local government; 4. a political subdivision of a State; 5. a special purpose district or public authority with a transportation function, including a port authority; 6. a Tribal government or a consortium of Tribal governments; 7. a partnership between Amtrak and 1 or more entities described in (1) through (6); and, 8. a group of entities described in any of (1) through (7). | 2. a metropolitan planning organization that serves an Urbanized Area (as defined by the Bureau of the Census) with a population of more than 200,000 individuals; 3. a unit of local government or group of local governments; 4. a political subdivision of a State or local government; 5. a special purpose district or public authority with a transportation function, including a port authority; 6. a Federal land management agency that applies jointly with a State or group of States; 7. a tribal government or a consortium of tribal governments; | 2. a regional transportation planning organization; 3. a unit of local government; 3. a unit of local government; 4. a tribal government or a consortium of tribal governments; or 5. a multijurisdictional group of entities above.
| 8. a multistate corridor organization; or 9. a multistate or multijurisdictional group of entities described in this paragraph.

i. Mega

Eligible applicants for Mega grants are: (1) A State or a group of States; (2) a metropolitan planning organization; (3) a unit of local government; (4) a political subdivision of a State; (5) a special purpose district or public authority with a transportation function, including a port authority; (6) a Tribal government or a consortium of Tribal governments; (7) a partnership between Amtrak and 1 or more entities described in (1) through (6); and (8) a group of entities described in any of (1) through (7).

ii. INFRA

Eligible applicants for INFRA grants are: (1) A State or group of States; (2) a metropolitan planning organization that serves an Urbanized Area (as defined by the Bureau of the Census) with a population of more than 200,000 individuals; (3) a unit of local government or group of local governments; (4) a political subdivision of a State or local government; (5) a special purpose district or public authority with a transportation function, including a port authority; (6) a Federal land management agency that applies jointly with a State or group of States; (7) a tribal government or a consortium of tribal governments; (8) a multistate corridor organization; or (9) a multistate or multijurisdictional group of entities described in this paragraph.

iii. Rural

Eligible applicants for Rural grants are: (1) A State; (2) a regional transportation planning organization; (3) a unit of local government; (4) a tribal government or a consortium of tribal governments; or (5) a multijurisdictional group of entities above.

iv. Joint Applications for Any Program

Multiple States or entities that submit a joint application should identify a lead applicant as the primary point of contact. Joint applications should include a description of the roles and responsibilities of each applicant and should be signed by each applicant. The applicant that will be responsible for financial administration of the project must be an eligible applicant.

2. Cost Sharing or Matching

i. Mega

Mega grants may be used for up to 60 percent of future total eligible project costs. Other Federal assistance may satisfy the non-Mega share requirement for a Mega grant, but total Federal assistance for a project receiving a Mega grant may not exceed 80 percent of future total eligible project costs.

ii. INFRA

INFRA grants may be used for up to 60 percent of future eligible project costs. Other Federal assistance may satisfy the non-INFRA share requirement for an INFRA grant, but total Federal assistance for a project receiving an INFRA grant may not exceed 80 percent of future total eligible project costs, except that, for States with a population density of not more than 80 persons per square mile of land area, based on the 2010 census, the maximum share of the total Federal assistance provided for a project receiving a grant under this section shall be the applicable share under section 120(b) of title 23, U.S.C. The following chart identifies the maximum total Federal cost share for INFRA projects, under such section 120(b), for projects for FY 2022.

State | Maximum Federal share for INFRA projects (%)
Alaska | 90.97
Arizona | 90.94
California | 83.57
Colorado | 82.79
Hawaii | 81.30
Idaho | 84.97
Montana | 82.75
Nevada | 94.89
New Mexico | 85.44
Oregon | 84.63
South Dakota | 81.95
Utah | 89.52
Washington | 81.42
Wyoming | 86.77

If a Federal land management agency applies jointly with a State or group of States, and that agency carries out the project, then Federal funds that were not made available under titles 23 or 49 of the U.S.C. may be used for the non-Federal share.

iii. Rural

Rural grants may be used for up to 80 percent of future eligible project costs, except eligible projects that further the completion of a designated segment of the Appalachian Development Highway System under section 14501 of title 40 of the U.S.C., or address a surface transportation infrastructure need identified for the Denali access system program under section 309 of the Denali Commission Act of 1998 may apply for up to 100 percent of the project costs. Other Federal assistance may satisfy the non-Rural share requirement for a Rural grant up to 100 percent of project costs.

Please note that the Rural Program has a higher statutory maximum Federal share than Mega and INFRA. Applications which seek funding above the statutory maximum share for MEGA and INFRA will only be eligible for an award from the Rural program.

iv. Universal Cost Sharing or Matching Guidance

Unless otherwise authorized by statute, non-Federal cost-share may not be counted as non-Federal share for both the programs under MPDG and another Federal program. For any project under MPDG, the Department cannot consider previously incurred costs or previously expended or encumbered funds towards the matching requirement. Matching funds are subject to the same Federal requirements described in Section F.2.iii as awarded funds. See Section D.2 for information about documenting cost sharing in the application.

Non-Federal sources include State funds originating from programs funded by State revenue, local funds originating from State or local revenue-funded programs, private funds, or other funding sources of non-Federal origin.

For the purpose of evaluating eligibility under the statutory limit on total Federal assistance in the Mega and INFRA programs, funds from TIFIA and RRIF credit assistance programs are considered Federal assistance and, combined with other Federal assistance, may not exceed 80 percent of the future eligible project costs, except as indicated for the INFRA program (see Section C.2.ii).

3. Eligible Projects

Each of the three funding opportunities has different statutory rules for what kinds of projects are eligible for funding. Applicants should review this section in determining for which of the three programs they are applying, given the type of project being proposed. Projects may be eligible for funding under multiple MPDG programs and applicants may apply for any program for which their project is eligible.

Eligible Project Types
Mega | INFRA | Rural
1. A highway or bridge project on the National Multimodal Freight Network. 2. A highway or bridge project on the National Highway Freight Network. 3. A highway or bridge project on the National Highway System. 4. A freight intermodal (including public ports) or freight rail project that provides public benefit. 5. A railway highway grade separation or elimination project. 6. An intercity passenger rail project. 7. A public transportation project that is eligible under assistance under Chapter 53 of title 49 or is a part of any of the project types described above. | 1. A highway freight project on the National Highway Freight Network. 2. A highway or bridge project on the National Highway System. 3. A freight intermodal, freight rail, or freight project within the boundaries of a public or private freight rail, water (including ports), or intermodal facility and that is a surface transportation infrastructure project necessary to facilitate direct intermodal interchange, transfer, or access into or out of the facility.* 4. A highway-railway grade crossing or grade separation project. 5. A wildlife crossing project. 6. A surface transportation project within the boundaries or functionally connected to an international border crossing that improves a facility owned by Fed/State/local government and increases throughput efficiency. 7. A project for a marine highway corridor that is functionally connected to the NHFN and is likely to reduce road mobile source emissions. | 1. A highway, bridge, or tunnel project eligible under National Highway Performance Program. 2. A highway, bridge, or tunnel project eligible under Surface Transportation Block Grant. 3. A highway, bridge, or tunnel project eligible under Tribal Transportation Program. 4. A highway freight project eligible under National Highway Freight Program. 5. A highway safety improvement project, including a project to improve a high risk rural road as defined by the Highway Safety Improvement Program. 6. A project on a publicly-owned highway or bridge that provides or increases access to an agricultural, commercial, energy, or intermodal facility that supports the economy of a rural area. 7. A project to develop, establish, or maintain an integrated mobility management system, a transportation demand management system, or on-demand mobility services.
| 8. A highway, bridge, or freight project on the National Multimodal Freight Network.

i. Mega

Eligible projects for Mega grants are: A highway or bridge project on the National Multimodal Freight Network; a highway or bridge project on the National Highway Freight Network; a highway or bridge project on the National Highway System; a freight intermodal (including public ports) or freight rail project that provides public benefit; a railway-highway grade separation or elimination project; an intercity passenger rail project; a public transportation project that is eligible under assistance under Chapter 53 of title 49 U.S.C. and is a part of any of the project types described above; or a grouping, combination, or program of interrelated, connected, or dependent projects of any of the projects described above.

ii. INFRA

Eligible projects for INFRA grants are: Highway freight projects carried out on the National Highway Freight Network (NHFN) (23 U.S.C. 167); highway or bridge projects carried out on the National Highway System (NHS), including projects that add capacity on the Interstate System to improve mobility or projects in a national scenic area; railway-highway grade crossing or grade separation projects; or a freight project that is (1) an intermodal or rail project, or (2) within the boundaries of a public or private freight rail, water (including ports), or intermodal facility; a wildlife crossing project; a surface transportation project within the boundaries of, or functionally connected to, an international border crossing that improves a facility owned by a Federal, State, or local government and increases throughput efficiency; a project for a marine highway corridor that is functionally connected to NHFN and is likely to reduce on-road mobile source emissions; or a highway, bridge, or freight project on the National Multimodal Freight Network under section 70103 of title 49 of the United States Code. To be eligible under INFRA, a project within the boundaries of a freight rail, water (including ports), or intermodal facility must be a surface transportation infrastructure project necessary to facilitate direct intermodal interchange, transfer, or access into or out of the facility and must significantly improve freight movement on the NHFN. In this context, improving freight movement on the NHFN may include shifting freight transportation to other modes, thereby reducing congestion and bottlenecks on the NHFN. For a freight project within the boundaries of a freight rail, water (including ports), or intermodal facility, Federal funds can only support project elements that provide public benefits.

iii. Rural

Eligible projects for Rural grants are: A highway, bridge, or tunnel project eligible under National Highway Performance Program (23 U.S.C. 119); a highway, bridge, or tunnel project eligible under Surface Transportation Block Grant (23 U.S.C. 133); a highway, bridge, or tunnel project eligible under Tribal Transportation Program (23 U.S.C. 202); a highway freight project eligible under National Highway Freight Program (23 U.S.C. 167); a highway safety improvement project, including a project to improve a high risk rural road as defined by the Highway Safety Improvement Program (23 U.S.C. 148); a project on a publicly-owned highway or bridge that provides or increases access to an agricultural, commercial, energy, or intermodal facility that supports the economy of a rural area; or a project to develop, establish, or maintain an integrated mobility management system, a transportation demand management system, or on-demand mobility services.

An eligible entity may bundle two or more similar eligible projects under the Rural program if projects are included as a bundled project in a statewide transportation improvement program under 23 U.S.C. 135 and will be awarded to a single contractor or consultant pursuant to a contract for engineering and design or construction between the contractor and the eligible entity.

4. Eligible Project Costs

The table below defines eligible project costs for each program per the program statutes:

Eligible Project Costs
Mega | INFRA | Rural
Development-phase activities and costs, including planning, feasibility analysis, revenue forecasting, alternatives analysis, data collection and analysis, environmental review and activities to support environmental review, preliminary engineering and design work, and other preconstruction activities, including the preparation of a data collection and post-construction analysis plan; and, Construction, reconstruction, rehabilitation, acquisition of real property (including land relating to the project and improvements to that land), environmental mitigation (including projects to replace or rehabilitate culverts or reduce stormwater runoff for the purpose of improving habitat for aquatic species), construction contingencies, acquisition of equipment, protection, and operational improvements directly relating to the project. | Development phase activities, including planning, feasibility analysis, revenue forecasting, environmental review, preliminary engineering, design, and other preconstruction activities, provided the project meets statutory requirements. Construction, reconstruction, rehabilitation, or acquisition of property (including land related to the project and improvements to the land), environmental mitigation (including a project to replace or rehabilitate a culvert, or to reduce stormwater runoff for the purpose of improving habitat for aquatic species), construction contingencies, equipment acquisition, and operational improvements directly related to system performance. INFRA grant recipients may use INFRA funds to pay for the subsidy and administrative costs necessary to receive TIFIA credit assistance. | Development phase activities, including planning, feasibility analysis, revenue forecasting, environmental review, preliminary engineering and design work, and other preconstruction activities; and, Construction, reconstruction, rehabilitation, acquisition of real property (including land related to the project and improvements to the land), environmental mitigation, construction contingencies, acquisition of equipment, and operational improvements.

v. Mega

Mega grants may be used for development-phase activities and costs, including planning, feasibility analysis, revenue forecasting, alternatives analysis, data collection and analysis, environmental review and activities to support environmental review, preliminary engineering and design work, and other preconstruction activities, including the preparation of a data collection and post-construction analysis plan; and construction, reconstruction, rehabilitation, acquisition of real property (including land relating to the project and improvements to that land), environmental mitigation (including projects to replace or rehabilitate culverts or reduce stormwater runoff for the purpose of improving habitat for aquatic species), construction contingencies, acquisition of equipment, protection, and operational improvements directly relating to the project.

vi. INFRA

INFRA grants may be used for the construction, reconstruction, rehabilitation, or acquisition of property (including land related to the project and improvements to the land), environmental mitigation (including a project to replace or rehabilitate a culvert, or to reduce stormwater runoff for the purpose of improving habitat for aquatic species), construction contingencies, equipment acquisition, and operational improvements directly related to system performance. Statutorily, INFRA grants may also fund development phase activities, including planning, feasibility analysis, revenue forecasting, environmental review, preliminary engineering, design, and other preconstruction activities, provided the project meets statutory requirements. However, the Department is seeking to prioritize INFRA funding for projects that result in construction; as a result, development phase activities may be less competitive under INFRA by nature of the evaluation structure described in Section E. Public-private partnership assessments for projects in the development phase are also eligible costs.

INFRA grant recipients may use INFRA funds to pay for the subsidy and administrative costs necessary to receive TIFIA credit assistance.

vii. Rural

Rural grants may be used for development phase activities, including planning, feasibility analysis, revenue forecasting, environmental review, preliminary engineering and design work, and other preconstruction activities; and construction, reconstruction, rehabilitation, acquisition of real property (including land related to the project and improvements to the land), environmental mitigation, construction contingencies, acquisition of equipment, and operational improvements.

5. Project Requirements for Each Funding Opportunity

Applicants only need to address the requirements for the program or programs from which they are requesting funding in in their application.

i. Mega

For the purposes of determining whether a project meets the minimum project size requirement, the Department will count all future eligible project costs under the award and some related costs incurred before selection for a Mega grant. Previously incurred costs will be counted toward the minimum project size requirement only if they were eligible project costs under Section C.4.i and were expended as part of the project for which the applicant seeks funds. Although those previously incurred costs may be used for meeting the minimum project size thresholds described in this Section, they cannot be reimbursed with Mega grant funds, nor will they count toward the project's required non-Federal share.

(a) Mega Project Sizes

The Department will make awards under the Mega program both to projects greater than $500 million in cost, and to projects greater than $100 million but less than $500 million in cost. For each fiscal year of Mega funds, 50 percent of available funds are reserved for projects greater than $500 million in cost, and 50 percent to projects between $100 million and $500 million in cost.

(b) Mega Project Requirements

For a Mega project to be selected, the Department must determine that the project meets all five requirements described in 49 U.S.C. 6701(f)(1) and below and further described in Section E.1.b.v and Section D.2.b.vii. If your project consists of multiple components with independent utility, the Department must determine that each component meets each requirement to select it for an award. See Section D.2.ii.VIII.

Mega Project Requirement #1: The project is likely to generate national or regional economic, mobility, or safety benefits.

Mega Project Requirement #2: The project is in significant need of Federal funding.

Mega Project Requirement #3: The project will be cost-effective.

Mega Project Requirement #4: With respect to related non-Federal financial commitments, one or more stable and dependable funding or financing sources are available to construct, maintain, and operate the project, and to cover cost increases.

Mega Project Requirement #5: The applicant has, or will have, sufficient legal, financial, and technical capacity to carry out the project.

(c) Mega Data Collection Requirements

In accordance with 49 U.S.C. 6701(g), an applicant wishing to submit a project to be considered for a Mega grant award will be required to submit, as an attachment to their application, a plan for the collection and analysis of data to identify the impacts of the project and the accuracy of any forecast prepared during the development phase of the project and included in the grant application. The contents of the plan shall include an approach to measuring proposed project outcome criteria as described in Section E and an approach for analyzing the consistency of predicted project characteristics with actual outcomes.

Each applicant selected for Mega grant funding must collect and report to the Department information on the project's performance based on performance indicators related to program goals (e.g., travel time savings, greenhouse gas emissions, passenger counts, or level of service) among other information. Performance indicators should include measurable goals or targets that Department will use internally to determine whether the project meets program goals and grant funds achieve the intended long-term outcomes of the Mega Grant Program. To the extent possible, performance indicators used in the reporting should align with the measures included in the application and should relate to at least one of the selection criteria defined in Section E.⁶ Before the start of construction of the Mega project, the project sponsor must submit a report providing baseline data for the purpose of analyzing the long-term impact of the project. Not later than six (6) years after the date of substantial completion of a project, the eligible entity carrying out the project shall submit a project outcomes report that compares the baseline data to quarterly project data for the duration of the fifth year of the project after substantial completion.

⁶ The Department may in the future publish a more detailed framework for performance measure data collection that will: Indicate standardized measurement approaches; data storage system requirements; and any other requirements the Secretary determines to be necessary.

ii. INFRA

For the purposes of determining whether a project meets the minimum project size requirement, the Department will count all future eligible project costs under the award and some related costs incurred before selection for an INFRA grant. Previously incurred costs will be counted toward the minimum project size requirement only if they were eligible project costs under Section C.3.ii. and were expended as part of the project for which the applicant seeks funds. Although those previously incurred costs may be used for meeting the minimum project size thresholds described in this Section, they cannot be reimbursed with INFRA grant funds, nor will they count toward the project's required non-Federal share.

For the INFRA Leverage Pilot, at least 50 percent of the project's future eligible project costs must be funded by non-Federal contributions.

(a) Large Projects

The minimum project size for large projects is the lesser of (1) $100 million; (2) 30 percent of a State's FY 2021 Federal-aid apportionment if the project is located in one State; or (3) 50 percent of the larger participating State's FY 2021 apportionment for projects located in more than one State. The following chart identifies the minimum total project cost, rounded up to the nearest million, for projects for FY 2022 for both single and multi-State projects.

State | FY 22 INFRA (30% of FY 21 apportionment) one-state minimum (millions) | FY 22 INFRA (50% of FY 21 apportionment) multi-state minimum * (millions)
Alabama | $100 | $100
Alaska | 100 | 100
Arizona | 100 | 100
Arkansas | 100 | 100
California | 100 | 100
Colorado | 100 | 100
Connecticut | 100 | 100
Delaware | 56 | 93
Dist. Of Col | 52 | 87
Florida | 100 | 100
Georgia | 100 | 100
Hawaii | 56 | 93
Idaho | 94 | 100
Illinois | 100 | 100
Indiana | 100 | 100
Iowa | 100 | 100
Kansas | 100 | 100
Kentucky | 100 | 100
Louisiana | 100 | 100
Maine | 61 | 100
Maryland | 100 | 100
Massachusetts | 100 | 100
Michigan | 100 | 100
Minnesota | 100 | 100
Mississippi | 100 | 100
Missouri | 100 | 100
Montana | 100 | 100
Nebraska | 95 | 100
Nevada | 100 | 100
New Hampshire | 54 | 90
New Jersey | 100 | 100
New Mexico | 100 | 100
New York | 100 | 100
North Carolina | 100 | 100
North Dakota | 82 | 100
Ohio | 100 | 100
Oklahoma | 100 | 100
Oregon | 100 | 100
Pennsylvania | 100 | 100
Rhode Island | 72 | 100
South Carolina | 100 | 100
South Dakota | 93 | 100
Tennessee | 100 | 100
Texas | 100 | 100
Utah | 100 | 100
Vermont | 67 | 100
Virginia | 100 | 100
Washington | 100 | 100
West Virginia | 100 | 100
Wisconsin | 100 | 100
Wyoming | 84 | 100
* For multi-State projects, the minimum project size is the largest of the multi-State minimums from the participating States.

(b) Small Projects

A small project is an eligible project that does not meet the minimum project size described in Section C.5.ii.

(c) Large/Small Project Requirements

For a large project to be selected, the Department must determine that the project meets seven requirements described in 23 U.S.C. 117(g) and below and further described in Section E.1.v.b. and Section D.2.b.vii. If your project consists of multiple components with independent utility, the Department must determine that each component meets each requirement to select it for an award. See Section E.1.v.b.:

Large Project Requirement #1: The project will generate national or regional economic, mobility, or safety benefits.

Large Project Requirement #2: The project will be cost-effective.

Large Project Requirement #3: The project will contribute to the accomplishment of one or more of the goals described in 23 U.S.C. 150.

Large Project Requirement #4: The project is based on the results of preliminary engineering.

Large Project Requirement #5: With respect to related non-Federal financial commitments, one or more stable and dependable funding or financing sources are available to construct, maintain, and operate the project, and contingency amounts are available to cover unanticipated cost increases.

Large Project Requirement #6: The project cannot be easily and efficiently completed without other Federal funding or financial assistance available to the project sponsor.

Large Project Requirement #7: The project is reasonably expected to begin construction no later than 18 months after the date of obligation of funds for the project.

For a small project to be selected, the Department must consider the cost-effectiveness of the proposed project, the effect of the proposed project on mobility in the State and region in which the project is carried out, and the effect of the proposed project on safety on freight corridors with significant hazards, such as high winds, heavy snowfall, flooding, rockslides, mudslides, wildfire, wildlife crossing onto the roadway, or steep grades.

iii. Rural

For a Rural project to be selected, the Department must determine that the project meets five requirements described in 23 U.S.C. 173(g) and below and further described in Section E.1.v.b and Section D.2.b.vii. If your project consists of multiple components with independent utility, the Department must determine that each component meets each requirement, to select it for an award. See Section D.2.VIII.

Rural Project Requirement #1: Will generate regional economic, mobility, or safety benefits.

Rural Project Requirement #2: The project will be cost-effective.

Rural Project Requirement #3: The project will contribute to the accomplishment of 1 or more of the national goals under 23 U.S.C. 150.

Rural Project Requirement #4: The project is based on the results of preliminary engineering.

Rural Project Requirement #5: The project is reasonably expected to begin construction not later than 18 months after the date of obligation of funds for the project.

6. Definition of Rural and Urban Areas

This section describes the definition of urban and rural areas and the minimum statutory requirements for projects that meet those definitions. The INFRA and Rural program statutes define a rural area as an area outside an Urbanized Area ⁷ with a population of over 200,000. In this notice, urban area is defined as inside an Urbanized Area, as designated by the U.S. Census Bureau, with a population of 200,000 or more.⁸ Rural and urban definitions differ in some other Department programs, including TIFIA. Cost share requirements and minimum grant awards are the same for projects located in rural and urban areas. The Department will consider a project to be in a rural area if the majority of the project (determined by geographic location(s) where the majority of the money is to be spent) is located in a rural area. However, if a project consists of multiple components, as described under section C.8 or C.9, then for each separate component the Department will determine whether that component is rural or urban. In some circumstances, including networks of projects under section C.9 that cover wide geographic regions, this component-by-component determination may result in awards that include urban and rural funds.

⁷ For Census 2010, the Census Bureau defined an Urbanized Area (UA) as an area that consists of densely settled territory that contains 50,000 or more people. Updated lists of UAs are available on the Census Bureau website at http://www2.census.gov/geo/maps/dc10map/UAUC_RefMap/ua/. For the purposes of the INFRA program, Urbanized Areas with populations fewer than 200,000 will be considered rural.

⁸ See www.transportation.gov/buildamerica/INFRAgrants for a list of Urbanized Areas with a population of 200,000 or more.

7. Areas of Persistent Poverty and Historically Disadvantaged Communities

BIL specifies that the Secretary consider, as an additional consideration for the Mega program, whether a project may benefit an Area of Persistent Poverty or a Historically Disadvantaged Community.

In this context, an Area of Persistent Poverty means: (1) Any county that has consistently had greater than or equal to 20 percent of the population living in poverty during the 30-year period preceding November 15, 2021, as measured by the 1990 and 2000 decennial census and the most recent annual Small Area Income Poverty Estimates as estimated by the Bureau of the Census; (2) any census tract with a poverty rate of at least 20 percent as measured by the 2014-2018 5-year data series available from the American Community Survey of the Bureau of the Census; or (3) any territory or possession of the United States. A county satisfies this definition only if 20 percent of its population was living in poverty in all three of the listed datasets: (1) The 1990 decennial census; (2) the 2000 decennial census; and (3) the 2020 Small Area Income Poverty Estimates. The Department lists all counties and census tracts that meet this definition for Areas of Persistent Poverty at https://datahub.transportation.gov/stories/s/tsyd-k6ij.

Historically Disadvantaged Communities—The Department has been developing a definition of Historically Disadvantaged Communities as part of its implementation of the Justice40 Initiative and will use that definition for the purpose of this NOFO. Consistent with the Office of Management and Budget's (OMB) Interim Guidance for the Justice40 Initiative, Historically Disadvantaged Communities include (1) certain qualifying census tracts, (2) any Tribal land, or (3) any territory or possession of the United States. The Department is providing a list of census tracts that meet the definition of Historically Disadvantaged Communities, as well as a mapping tool to assist applicants in identifying whether a project is located in a Historically Disadvantaged Community, available at https://datahub.transportation.gov/stories/s/tsyd-k6ij.

8. Project Components

An application may describe a project that contains more than one component. The Department may award funds for a component, instead of the larger project, if that component (1) independently meets minimum award amounts described in Section B and all eligibility requirements described in Section C, including the project requirements of the program(s) being applied for described in Sections C and D.2; (2) independently aligns well with the selection criteria specified in Section E; and (3) meets National Environmental Policy Act (NEPA) requirements with respect to independent utility. In this context, independent utility means that the component will represent a transportation improvement that is usable and represents a reasonable expenditure of the Department funds even if no other improvements are made in the area, and will be ready for intended use upon completion of that component's construction. If an application describes multiple components, the application should demonstrate how the components collectively advance the purposes of the funding program or programs for which the applicant is applying. An applicant should not add multiple components to a single application merely to aggregate costs or to avoid submitting multiple applications.

Applicants should be aware that, depending upon applicable Federal law and the relationship among project components, an award funding only some project components may make other project components subject to Federal requirements as described in Section F.2.ii. For example, under 40 CFR 1509(e), the NEPA review for the funded project component may need to include evaluation of all project components as connected, similar, or cumulative actions.

The Department strongly encourages applicants to identify in their applications the project components that meet the independent utility definition above and separately detail the costs and program funding (Mega, INFRA, and/or Rural) requested for each component. If the application identifies one or more independent project components, the application should clearly identify how each independent component addresses selection criteria and produces benefits on its own, in addition to describing how the full proposal of which the independent component is a part addresses selection criteria.

9. Network of Projects

An application may describe and request funding for a network of projects. A network of projects is a single grant award that funds multiple projects addressing the same transportation problem. For example, if an applicant seeks to improve efficiency along a rail corridor, then their application might propose one award for four grade separation projects at four different railway-highway crossings. Each of the four projects would independently increase rail safety and reduce roadway congestion but the overall benefits would be greater if the projects were completed together under a single award.

The Department will evaluate applications that describe networks of projects similar to how it evaluates projects with multiple components. Because of their similarities, the guidance in Section C.8. is applicable to networks of projects, and applicants should follow that guidance on how to present information in their application. As with project components, depending upon applicable Federal law and the relationship among projects within a network of projects, an award that funds only some projects in a network may make other projects subject to Federal requirements as described in Section F.2.

10. Application Limit

To encourage applicants to prioritize their MPDG opportunity submissions, each eligible applicant may submit three unique applications per grant program (Mega, INFRA, and Rural), for a total application limit of nine. The three-unique-applications-per-grant program applies only to applications where the applicant is the lead applicant. There is no limit on applications for which an applicant can be listed as a partnering agency. If a lead applicant submits more than three unique applications to a particular grant program as the lead applicant, only the first three received will be considered.

D. Application and Submission Information

1. Address

Applications must be submitted through www.Grants.gov. Instructions for submitting applications can be found at https://www.transportation.gov/grants/mpdg-how-apply.

2. Content and Form of Application

The application must include the Standard Form 424 (Application for Federal Assistance), Standard Form 424C (Budget Information for Construction Programs), cover page, and the Project Narrative. More detailed information about the cover pages and Project Narrative follows.

i. Cover Page

Each application should contain a cover page with the following chart:

Basic Project Information: |
What is the Project Name?
Who is the Project Sponsor?
Was an application for USDOT discretionary grant funding for this project submitted previously? | (If Yes, please include project title and applicable grant programs).
A project will be evaluated for eligibility for consideration for all three programs, unless the applicant wishes to opt-out of being evaluated for one or more of the grant programs | _Opt-out of Mega? _Opt-out of INFRA? _Opt-out of Rural?
Project Costs:
MPDG Request Amount | Exact Amount in year-of-expenditure dollars: $__
Estimated Other Federal funding (excl. MPDG) | Estimate in year-of-expenditure dollars: $__
Estimated Other Federal funding (excl. MPDG) further detail | Other Federal funding from Federal Formula dollars: $__ Other Federal funding being requested from other USDOT grant opportunities?: $__From What Program(s)?: __
Estimated non-Federal funding | Estimate in year-of-expenditure dollars: $__
Future Eligible Project Cost (Sum of previous three rows) | Estimate in year-of-expenditure dollars: $__
Previously incurred project costs (if applicable) | Estimate in year-of-expenditure dollars: $__
Total Project Cost (Sum of `previous incurred' and `future eligible') | Estimate in year-of-expenditure dollars: $__
INFRA: Amount of Future Eligible Costs by Project Type | (1) A highway freight project on the National Highway Freight Network: $__ (2) A highway or bridge project on the National Highway System: $__
| (3) A freight intermodal, freight rail, or freight project within the boundaries of a public or private freight rail, water (including ports), or intermodal facility and that is a surface transportation infrastructure project necessary to facilitate direct intermodal interchange, transfer, or access into or out of the facility: $__
| (4) A highway-railway grade crossing or grade separation project: $__
| (5) A wildlife crossing project: $__
| (6) A surface transportation project within the boundaries or functionally connected to an international border crossing that improves a facility owned by fed/state/local government and increases throughput efficiency: $__
| (7) A project for a marine highway corridor that is functionally connected to the NHFN and is likely to reduce road mobile source emissions: $__
| (8) A highway, bridge, or freight project on the National Multimodal Freight Network: $__
Mega: Amount of Future Eligible Costs by Project Type | (1) A highway or bridge project on the National Multimodal Freight Network: $__ (2) A highway or bridge project on the National Highway Freight Network: $__
| (3) A highway or bridge project on the National Highway System: $__
| (4) A freight intermodal (including public ports) or freight rail project that provides public benefit: $__
| (5) A railway highway grade separation or elimination project: $__
| (6) An intercity passenger rail project: $__
| (7) A public transportation project that is eligible under assistance under Chapter 53 of title 49 and is a part of any of the project types described above: $__
| (8) A grouping, combination, or program of interrelated, connected, or dependent projects of any of the projects described above.
Rural: Amount of Future Eligible Costs by Project Type | (1) A highway, bridge, or tunnel project eligible under National Highway Performance Program: $__
| (2) A highway, bridge, or tunnel project eligible under Surface Transportation Block Grant: $__
| (3) A highway, bridge, or tunnel project eligible under Tribal Transportation Program: $__
| (4) A highway freight project eligible under National Highway Freight Program: $__
| (5) A highway safety improvement project, including a project to improve a high risk rural road as defined by the Highway Safety Improvement Program: $__
| (6) A project on a publicly-owned highway or bridge that provides or increases access to an agricultural, commercial, energy, or intermodal facility that supports the economy of a rural area: $__
| (7) A project to develop, establish, or maintain an integrated mobility management system, a transportation demand management system, or on-demand mobility services: $__
Project Location:
State(s) in which project is located
INFRA: Small or Large project | Small/Large.
Urbanized Area in which project is located, if applicable |
Population of Urbanized Area (According to 2010 Census) |
Is the project located (entirely or partially) in Area of Persistent Poverty or Historically Disadvantaged Community? | List census tracts that qualify as within these areas. (https://datahub.transportation.gov/stories/s/tsyd-k6ij).
Is the project located (entirely or partially) in Federal or USDOT designated areas? | Yes/No. If yes, please describe which of the four Federally designated community development zones in which your project is located.
| Opportunity Zones: (https://opportunityzones.hud.gov/).
| Empowerment Zones: (https://www.hud.gov/hudprograms/empowerment_zones) Promise Zones: (https://www.hud.gov/program_offices/field_policy_mgt/fieldpolicymgtpz).
| Choice Neighborhoods: (https://www.hud.gov/program_offices/public_indian_housing/program s/ph/cn).
Is the project currently programmed in the: • TIP. • STIP. • MPO Long Range Transportation Plan. • State Long Range Transportation Plan. • State Freight Plan. | Yes/No. (Please specify in which plans the project is currently programmed, and provide the identifying number if applicable).

ii. Project Narrative

The Department recommends that the project narrative follow the basic outline below to address the program requirements and assist evaluators in locating relevant information.

I. Project Description | See D.ii.I.
II. Project Location | See D.2.ii.II.
III. Project Parties | See D.2.ii.III.
IV. Grant Funds, Sources and Uses of all Project Funding | See D.2.ii.IV.
V. Project Outcome Criteria | See D.2.ii.V.
VI. Benefit-Cost Analysis.
VII. Project Readiness and Environmental Risk | See D.2.ii.VII and E.1.c.ii.
VIII. Project Requirements | See D.2.ii.VIII and C.5.

The project narrative should include the information necessary for the Department to determine that the project satisfies project requirements described in Sections B and C for each of the grant programs from which the applicant is seeking funding and to assess the selection criteria specified in Section E.1 that are applicable to the grant programs from which the applicant is seeking funding. To the extent practicable, applicants should provide supporting data and documentation in a form that is directly verifiable by the Department. The Department may ask any applicant to supplement data in its application, but it expects applications to be complete upon submission.

In addition to a detailed statement of work, detailed project schedule, and detailed project budget, the project narrative should include a table of contents, maps, and graphics, as appropriate, to make the information easier to review. The Department recommends that the project narrative be prepared with standard formatting preferences (i.e., a single-spaced document, using a standard 12-point font such as Times New Roman, with 1-inch margins). The project narrative may not exceed 25 pages in length, excluding cover pages and table of contents. Appendices may include documents supporting assertions or conclusions made in the 25-page project narrative and do not count towards the 25-page limit. If possible, website links to supporting documentation should be provided rather than copies of these supporting materials. If supporting documents are submitted, applicants should clearly identify within the project narrative the relevant portion of the project narrative that each supporting document supports. At the applicant's discretion, relevant materials provided previously to a modal administration in support of a different USDOT financial assistance program may be referenced and described as unchanged. The Department recommends using appropriately descriptive final names (e.g., “Project Narrative,” “Maps,” “Memoranda of Understanding and Letters of Support,” etc.) for all attachments. The USDOT recommends applications include the following sections:

I. Project Description

The first section of the application should provide a concise description of the project, the transportation challenges that it is intended to address, and how it will address those challenges. This section should discuss the project's history, including a description of any previously incurred costs. The applicant may use this section to place the project into a broader context of other infrastructure investments being pursued by the project sponsor.

II. Project Location

This section of the application should describe the project location, including a detailed geographical description of the proposed project, a map of the project's location and connections to existing transportation infrastructure, and geospatial data describing the project location. The application should also identify:

(a) Whether the project is located in an Area of Persistent Poverty, including the relevant County and/or census tract(s);

(b) whether the project is located in a Historically Disadvantaged Community, including the relevant census tract(s);

(c) If the project is located within the boundary of a 2010 Census-designated Urbanized Area, the application should identify the Urbanized Area; ⁹ and

⁹ Lists of Urbanized Areas are available on the Census Bureau website at http://www2.census.gov/geo/maps/dc10map/UAUC_RefMap/ua/ and maps are available at https://tigerweb.geo.census.gov/tigerweb/. For the purposes of the INFRA program, Urbanized Areas with populations fewer than 200,000 will be considered rural.

(d) whether the project is located in one of four Federally designated community development zones (Opportunity Zones, Empowerment Zones, Promise Zones, or Choice Neighborhoods).

Information under (d) may be used for the Department's internal data tracking.

III. Project Parties

This section of the application should provide details about the lead applicant, including the lead applicant's experience with receipt and expenditure of Federal transportation funds. This section of the application should also list and briefly describe all of the other public and private parties who are involved in delivering the project, such as port authorities, terminal operators, freight railroads, shippers, carriers, freight-related associations, third-party logistics providers, and freight industry workforce organizations.

IV. Grant Funds, Sources, and Uses of Project Funds

This section of the application should describe the project's budget and the plans for covering the full cost of the project from all sources. At a minimum, it should include:

Previously incurred expenses, as defined in Section C.

• Future eligible costs, as defined in Section C.5.

• For all funds to be used for future eligible project costs, the source and amount of those funds.

• For non-Federal funds to be used for future eligible project costs, documentation of funding commitments should be referenced here and included as an appendix to the application.

• All Federal funds to be used for future eligible project costs, including grant programs covered by this MPDG application (Mega, INFRA, and/or Rural), other Federal grants that have been awarded to the project or for which the project intends to apply in the future (e.g., Bridge Investment Program, FTA Capital Investment Grant, etc.) and any Federal formula funds that have already been programmed for the project or are planned to be programmed for the project.

• For each category of Federal funds to be used for future eligible project costs, the amount, nature, and source of any required non-Federal match for those funds.

The Department is committed to considering project funding decisions holistically among the various discretionary grant programs available in BIL. The Department also recognizes that applicants may be seeking discretionary grant funding from multiple discretionary grant programs and opportunities. An applicant may seek the same award amounts from multiple Department discretionary opportunities or seek a combination of funding from multiple Department opportunities. The applicant should indicate, within the Federal funding description, details as to what other potential Department programs and opportunities they intend to solicit funds, and what award amounts they will be seeking.

(A) A budget showing how each source of funds will be spent. The budget should show how each funding source will share in each major construction activity and present those data in dollars and percentages. Funding sources should be grouped into three categories: Non-Federal; MPDG; and other Federal. If the project contains components, the budget should separate the costs of each project component. If the project will be completed in phases, the budget should separate the costs of each phase. The budget should be detailed enough to demonstrate that the project satisfies the statutory cost-sharing requirements described in Section C.2 and those associated with each category of Federal funding.

(B) Information showing that the applicant has budgeted sufficient contingency amounts to cover unanticipated cost increases.

(C) The amount of the requested MPDG funds that would be subject to the limit on freight rail, port, and intermodal infrastructure described in Section B.2.ii., if being considered for INFRA funding.

In addition to the information enumerated above, this section should provide complete information on how all project funds may be used. For example, if a source of funds is available only after a condition is satisfied, the application should identify that condition and describe the applicant's control over whether it is satisfied. Similarly, if a source of funds is available for expenditure only during a fixed period, the application should describe that restriction. Complete information about project funds will ensure that the Department's expectations for award execution align with any funding restrictions unrelated to the Department, even if an award differs from the applicant's request.

V. Project Outcome Criteria

This section of the application should demonstrate how the project aligns with the Project Outcome Criteria described in Section E.2 of this notice. The Department encourages applicants to address each criterion as it applies to the funding programs to which they are applying or else to expressly state that the project does not address the criterion. Insufficient information to assess any criterion will negatively impact the project rating. Applicants are not required to follow a specific format, but the following organization, which addresses each criterion separately, promotes a clear discussion that assists project evaluators. To minimize redundant information in the application, the Department encourages applicants to cross-reference from this section of their application to relevant substantive information in other sections of the application.

The guidance here is about how the applicant should organize their application. Guidance describing how the Department will evaluate projects against the Project Outcome Criteria is in Section E.2 of this notice. Applicants also should review that section before considering how to organize their application.

Criterion #1: Safety

This section of the application should describe the anticipated outcomes of the project that support the Safety criterion (described in Section E.2 of this notice). The applicant should include information on, and to the extent possible, quantify, how the project will target known, documented safety problems within the project area or wider transportation network, and demonstrate how the project will protect all users of the transportation system and/or communities from health and safety risks. The application should provide evidence to support the claimed level of effectiveness of the project in protecting all travelers, including vulnerable users, from health and safety risks, such as the number and rate of reduced crashes, serious injuries, and/or fatalities. If the project is providing increased access to commercial motor vehicle parking, the application should provide information demonstrating the lack of parking in the area and evidence estimating the number of vehicles that will use the new parking.

Criterion #2: State of Good Repair

This section of the application should describe how the project will contribute to a state of good repair by restoring and modernizing core infrastructure assets and/or addressing current or projected system vulnerabilities (described in Section E.2 of this notice). The application should include information on the current condition of all assets that will be affected by the project, how the proposed project will improve asset condition, plans to ensure the ongoing state of good repair of new assets constructed as part of the project, and any estimates of impacts on long-term cost structures or overall life-cycle costs.

Criterion #3: Economic Impacts, Freight Movement, and Job Creation

This section of the application should describe how the project will contribute to at least one of the following outcomes: (1) Improve system operations to increase travel time reliability and manage travel demand for goods movement, especially for supply chain bottlenecks, thereby reducing the cost of doing business and improving local and regional freight connectivity to the national and global economy; (2) improve multimodal transportation systems that incorporate affordable transportation options such as public transit to improve mobility of people and goods; (3) decrease transportation costs and provide reliable and timely access to employment centers and job opportunities; (4) significantly improve the economic strength of regions and cities by increasing the economic productivity of land, capital, or labor, and linkages between distinct rural areas and rural and urban areas; (5) enhance recreational and tourism opportunities by providing access to Federal lands (including national parks, national forests, national recreation areas, national wildlife refuges, and wilderness areas) or State parks; (6) result in high-quality job creation by supporting good-paying jobs with a free and fair choice to join a union in project construction and in on-going operations and maintenance, and incorporate strong labor standards, such as through the use of project labor agreements, registered apprenticeship programs, and other joint labor-management training programs; ¹⁰ (7) result in workforce opportunities for historically underrepresented groups, such as through the use of local hire provisions or other workforce strategies targeted at or jointly developed with historically underrepresented groups, to support project development; (8) foster economic growth and development while creating long-term high-quality jobs, while addressing acute challenges, such as energy sector job losses in energy communities as identified in the report released in April 2021 by the interagency working group established by section 218 of Executive Order 14008; ¹¹ (9) support integrated land use, economic development and transportation planning to improve the movement of people and goods and local fiscal health, facilitate greater public and private investments and strategies in land-use productivity, including rural main street revitalization or increase in the production or preservation of location-efficient housing; or (10) help the United States compete in a global economy by encouraging the location of important industries and future innovations and technology in the U.S., and facilitating efficient and reliable freight movement.

¹⁰ https://www.apprenticeship.gov/https://www.apprenticeship.gov.

¹¹ https://netl.doe.gov/sites/default/files/2021-04/Initial%20Report%20on%20Energy%20Communities_Apr2021.pdf.

Criterion #4: Climate Change, Resiliency, and the Environment

This section of the application should describe how the project will incorporate considerations of climate change and environmental justice in the planning stage and in project delivery, such as through incorporation of specific design elements that address climate change impacts. The application should describe the degree to which the project is expected to reduce transportation-related pollution such as air pollution and greenhouse gas emissions, increase use of lower-carbon travel modes such as transit and active transportation, improve the resiliency of at-risk ¹² infrastructure, incorporate lower-carbon pavement and construction materials, or address the disproportionate negative environmental impacts of transportation on disadvantaged communities. The application should explain to what extent the project will prevent stormwater runoff that would be a detriment to aquatic species. The application should describe whether the project will promote energy efficiencies, support fiscally responsible land use and transportation efficient design that reduces greenhouse gas emissions, improve public health and increase use of lower-carbon travel modes such as transit, active transportation and multimodal freight, incorporate electrification or zero emission vehicle infrastructure, increase resilience to all hazards, and recycle or redevelop brownfield sites, particularly in communities that disproportionally experience climate-change-related consequences. The application should describe if projects in floodplains are upgraded consistent with the Federal Flood Risk Management Standard in Executive Order 14030, Climate-Related Financial Risk (86 FR 27967) and 13690, Establishing a Federal Flood Risk Management Standard and a Process for Further Soliciting and Considering Stakeholder Input (80 FR 6425.)

¹² For the MPDG opportunity, at-risk infrastructure is defined as infrastructure that is subject to, or faces increased long-term future risks of, a weather event, a natural disaster, or changing conditions, such as coastal flooding, coastal erosion, wave action, storm surge, or sea level rise, in order to improve transportation and public safety and to reduce costs by avoiding larger future maintenance or rebuilding costs.

Criterion #5: Equity, Multimodal Options, and Quality of Life

This section of the application should describe how the project will proactively address equity and barriers to opportunity, improve quality of life in rural areas or urbanized areas, and benefit Historically Disadvantaged Communities or populations, or Areas of Persistent Poverty. This may include increasing affordable transportation choices, especially for transportation disadvantaged communities. It should also describe how the project has or will meaningfully engage communities affected by the project, with effective public participation that is accessible to all persons regardless of race, color, national origin, disability, age, and sex. Equity considerations should be integrated into planning, development, and implementation of transportation investments, including utilization of Disadvantaged Business Enterprises (DBEs). The application should describe any public involvement plan or targeted outreach, demonstrating engagement of diverse input such as community-based organizations during project planning and consideration of such input in the decision-making. The project application should describe planning and engagement in the project design phase to mitigate and, to the greatest extent possible, prevent, physical and economic displacement.

Criterion #6: Innovation Areas: Technology, Project Delivery, and Financing

This section of the application should contain sufficient information to evaluate how the project can be transformative in achieving program goals, and includes or enables innovation in: (1) The accelerated deployment of innovative and secure-by-design technology, including expanded access to broadband; (2) use of innovative permitting, contracting, and other project delivery practices; and (3) innovative financing. If the project does not address a particular innovation area, the application should state this fact. Please see Section E.1.a for additional information.

VI. Benefit-Cost Analysis

This section describes the recommended approach for the completion and submission of a benefit-cost analysis (BCA) as an appendix to the Project Narrative. The purpose of the BCA is to enable Department to evaluate the project's cost effectiveness by comparing its expected benefits to its expected costs. The results of the analysis should be summarized in the Project Narrative directly, as described in Section D.2. Applicants should also provide all relevant files used for their BCA, including any spreadsheet files and technical memos describing the analysis (whether created in-house or by a contractor). The spreadsheets and technical memos should present the calculations in sufficient detail and transparency to allow the analysis to be reproduced by Department evaluators.

The BCA should carefully document the assumptions and methodology used to produce the analysis, including a description of the baseline, the sources of data used to project the outcomes of the project, and the values of key input parameters. The analysis should provide present value estimates of a project's benefits and costs relative to a no-build baseline. To calculate present values, applicants should apply a real discount rate of 7 percent per year to the project's streams of benefits and costs, which should be stated in constant-dollar terms. The costs and benefits that are compared in the BCA must cover the same project scope.

Any benefits claimed for the project, both quantified and unquantified, should be clearly tied to the expected outcomes of the project. Projected benefits may accrue to both users of the facility and those who are affected by its use (such as through changes in emissions of greenhouse gases and other pollutants, or availability of affordable housing or more affordable transportation choices). Usage forecasts applied in estimating future benefits should account for any additional demand induced by the improvements to the facility. While benefits should be quantified wherever possible, applicants may also describe other categories of benefits in the BCA that are more difficult to quantify and/or value in economic terms.

The BCA should include the full costs of developing, constructing, operating, and maintaining the proposed project, as well as the expected timing or schedule for costs in each of these categories. The BCA may also include the present discounted value of any remaining service life of the asset at the end of the analysis period.

Detailed guidance from the Department on estimating benefits and costs, together with recommended economic values for converting them to dollar terms and discounting to their present values, is available on the program website (see www.transportation.gov/office-policy/transportation-policy/benefit-cost-analysis-guidance-discretionary-grant-programs-0).

VII. Project Readiness and Environmental Risk

This section of the application should include information that, when considered with the project budget information presented elsewhere in the application, is sufficient for the Department to evaluate whether the project is reasonably expected to begin construction in a timely manner. To assist the Department's project readiness assessment, the applicant should provide the information requested on technical feasibility, project schedule, project approvals, and project risks, each of which is described in greater detail in the following sections.

Applicants are not required to follow the specific format described here, but this organization, which addresses each relevant aspect of project readiness, promotes a clear discussion that assists project evaluators. To minimize redundant information in the application, the Department encourages applicants to cross-reference from this section of their application to relevant substantive information in other sections of the application.

The guidance here is about what information applicants should provide and how the applicant should organize their application. Guidance describing how the Department will evaluate a project's readiness is described in section E.4 of this notice. Applicants also should review that section before considering how to organize their application.

(a) Technical Feasibility. The applicant should demonstrate the technical feasibility of the project with engineering and design studies and activities; the development of design criteria and/or a basis of design; the basis for the cost estimate presented in the application, including the identification of contingency levels appropriate to its level of design; and any scope, schedule, and budget risk-mitigation measures. Applicants should include a detailed statement of work that focuses on the technical and engineering aspects of the project and describes in detail the project to be constructed. The applicant must demonstrate compliance with Title VI/Civil Rights requirements, to ensure that no person is excluded from participation, denied benefits, or otherwise subjected to discrimination under any program or activity, on the basis of race, color, national origin, sex, age, or disability.

(b) Project Schedule. The applicant should include a detailed project schedule that identifies all major project milestones. Examples of such milestones include State and local planning approvals (programming on the Statewide Transportation Improvement Program); start and completion of NEPA and other Federal environmental reviews and approvals including permitting, design completion, right-of-way acquisition, approval of plans, specifications and estimates (PS&E); procurement; State and local approvals; project partnership and implementation agreements including agreements with railroads; and construction. The project schedule should be sufficiently detailed to demonstrate that:

• All necessary activities will be complete to allow MPDG funds to be obligated ¹³ sufficiently in advance of the statutory deadline for applicable programs (For INFRA and Rural, the statutory obligation deadline is September 30, 2025 for FY 2022 funds. For Mega, there is no statutory obligation deadline; however, the Department seeks projects that will begin construction before September 30, 2025) and that any unexpected delays will not put the funds at risk of expiring before they are obligated;

¹³ Obligation occurs when a selected applicant enters a written, project-specific agreement with the Department and is generally after the applicant has satisfied applicable administrative requirements, including transportation planning and environmental review requirements.

• the project can begin construction quickly upon obligation of grant funds, and that the grant funds will be spent expeditiously once construction starts; and

• all real property and right-of-way acquisition will be completed in a timely manner in accordance with 49 CFR part 24, 23 CFR part 710, and other applicable legal requirements or a statement that no acquisition is necessary. A plan for securing any required Right-of-Way agreements should be included. If applicable, this section should describe a right-of-way acquisition plan that minimally disrupts communities and maintains community cohesion.

(c) Required Approvals.

i. Environmental Permits and Reviews. The application should demonstrate receipt (or the schedule for anticipated receipt) of all environmental approvals and permits necessary for the project to proceed to construction on the timeline specified in the project schedule and necessary to meet the statutory obligation deadline, including satisfaction of all Federal, State, and local requirements and completion of the NEPA process. Specifically, the application should include:

• Information about the NEPA status of the project, including whether the project may qualify for a Categorical Exclusion under current regulations. If the NEPA process is complete, an applicant should indicate the date of completion, and provide a website link or other reference to the final Categorical Exclusion, Finding of No Significant Impact, Record of Decision, and any other NEPA documents prepared. If the NEPA process is underway, but not complete, the application should detail the NEPA class of action, where the project is in the NEPA process, and indicate the anticipated date of completion of all milestones and of the final NEPA determination. If the final agency action with respect to NEPA occurred more than three years before the application date, the applicant should describe a proposed approach for updating this material in accordance with applicable NEPA reconsideration requirements.

• Information on reviews, approvals, and permits by other Federal and State agencies. An application should indicate whether the proposed project requires reviews or approval actions by other agencies,¹⁴ indicate the status of such actions, and provide detailed information about the status of those reviews or approvals and should demonstrate compliance with any other applicable Federal, State, or local requirements, and when such approvals are expected. Applicants should provide a website link or other reference to copies of any reviews, approvals, and permits prepared.

¹⁴ Projects that may impact protected resources such as wetlands, species habitat, cultural or historic resources require review and approval by Federal and State agencies with jurisdiction over those resources.

• Environmental studies or other documents—preferably through a website link—that describe in detail known project impacts, and possible mitigation for those impacts.

• A description of discussions with the appropriate Department modal administration field or headquarters office regarding the project's compliance with NEPA and other applicable Federal environmental reviews and approvals.

• A description of public engagement about the project that has occurred, including details on the degree to which public comments and commitments have been integrated into project development and design.

ii. State and Local Approvals. The applicant should demonstrate receipt (or the schedule for anticipated receipt) of State and local approvals on which the project depends, such as State and local environmental and planning approvals, and statewide transportation improvement program (STIP) or transportation improvement program (TIP) funding. Additional support from relevant State and local officials is not required; however, an applicant should demonstrate that the project has broad public support.

iii. Federal Transportation Requirements Affecting State and Local Planning. The planning requirements applicable to the Federal-aid highway program apply to all projects, but for port, freight, and rail projects, planning requirements of the operating administration that will administer the project will also apply,¹⁵ including intermodal projects located at airport facilities.¹⁶ Applicants should demonstrate that a project that is required to be included in the relevant State, metropolitan, and local planning documents has been or will be included in such documents. If the project is not included in a relevant planning document at the time the application is submitted, the applicant should submit a statement from the appropriate planning agency that actions are underway to include the project in the relevant planning document. To the extent possible, freight projects should be included in a State Freight Plan and supported by a State Freight Advisory Committee (49 U.S.C. 70201, 70202). Applicants should provide links or other documentation supporting this consideration.

¹⁵ In accordance with 23 U.S.C. 134 and § 135, all projects requiring an action by the Federal Highway Administration (FHWA) must be in the applicable plan and programming documents (e.g., metropolitan transportation plan, transportation improvement program (TIP), and statewide transportation improvement program (STIP)).). Further, in air quality non-attainment and maintenance areas, all regionally significant projects, regardless of the funding source, must be included in the conforming metropolitan transportation plan and TIP. Inclusion in the STIP is required under certain circumstances. To the extent a project is required to be on a metropolitan transportation plan, TIP, and/or STIP, it will not receive a grant until it is included in such plans. Projects not currently included in these plans can be amended by the State and metropolitan planning organization (MPO). Projects that are not required to be in long range transportation plans, STIPs, and TIPs will not need to be included in such plans to receive a grant. Port, freight rail, and intermodal projects are not required to be on the State Rail Plans called for in the Passenger Rail Investment and Improvement Act of 2008. However, applicants seeking funding for freight projects are encouraged to demonstrate that they have done sufficient planning to ensure that projects fit into a prioritized list of capital needs and are consistent with long-range goals. Means of demonstrating this consistency would include whether the project is in a TIP or a State Freight Plan that conforms to the requirements of Section 70202 of Title70202Title 49 U.S.C. prior to the start of construction. Port planning guidelines are available at StrongPorts.gov.

¹⁶ Projects at grant obligated airports must be compatible with the Federal Aviation Administration (FAA---)--)—approved Airport Layout Plan (ALP), as well as aeronautical surfaces associated with the landing and takeoff of aircraft at the airport. Additionally, projects at an airport: Must comply with established Sponsor Grant Assurances, including (but not limited to) requirements for non-exclusive use facilities, consultation with users, consistency with local plans including development of the area surrounding the airport, and consideration of the interest of nearby communities, among others; and must not adversely affect the continued and unhindered access of passengers to the terminal.

Because projects have different schedules, the construction start date for each grant will be specified in the project-specific agreements signed by relevant modal administration and the grant recipients, will be based on critical path items that applicants identify in the application, and will be consistent with relevant State and local plans.

iv. Assessment of Project Risks and Mitigation Strategies. Project risks, such as procurement delays, environmental uncertainties, increases in real estate acquisition costs, uncommitted local match, pushback from stakeholders or impacted communities, or lack of legislative approval, affect the likelihood of successful project start and completion. The applicant should identify all material risks to the project and the strategies that the lead applicant and any project partners have undertaken or will undertake to mitigate those risks. The applicant should assess the greatest risks to the project and identify how the project parties will mitigate those risks.

To the extent it is unfamiliar with the Federal program, the applicant should contact the Department modal field or headquarters offices as found at https://www.transportation.gov/grants/mega-additional-guidance for information on what steps are prerequisite to the obligation of Federal funds to ensure that their project schedule is reasonable and that there are no risks of delays in satisfying Federal requirements.

VIII. Statutory Project Requirements

To select a project for award, the Department must determine that the project—as a whole, as well as each independent component of the project—satisfies statutory requirements relevant to the program from which it will receive an award. The application should include sufficient information for the Department to make these determinations for both the project as a whole and for each independent component of the project. Applicants should use this section of the application to summarize how their project meets applicable statutory requirements and, if present, how each independent project component meets each of the following requirements. Applicants are not required to reproduce the table below in their application, but following this format will help evaluators identify the relevant information that supports each large project determination. Supporting information provided in appendices may be referenced.

Statutory Selection Requirements
23 U.S.C. 117 INFRA | 49 U.S.C. 6701 Mega | 23 U.S.C. 173 Rural | Guidance
(1) The project will generate national, or regional economic, mobility, or safety benefits | (1) The project is likely to generate national or regional economic, mobility, safety benefits | (1) The project will generate regional economic, mobility, or safety benefits | Summarize the economic, mobility, and safety benefits of the project and independent project components, and describe the scale of their impact in national or regional terms. The Department will base its determination on the assessment of this information by Project Outcome evaluators.
(2) The project will be cost effective | (3) The project will be cost effective | (2) The project will be cost effective | Highlight the results of the Benefit-Cost analysis, as well as the analyses of independent project components if applicable. The Department will base its determination on the ratio of project benefits to project costs as assessed by the Economic Analysis Team.
(3) The project will contribute to 1 or more of the national goals described under Section 150 | No statutory requirement | (3) The project will contribute to 1 or more of the national goals described under Section 150 | Specify the Goal(s) and summarize how the project and independent project components contribute to that goal(s). The Department will base its determination on the assessment of this information by Project Outcome evaluators.
(4) The project is based on the results of preliminary engineering | No statutory requirement | (4) The project is based on the results of preliminary engineering | For a project or independent project component to be based on the results of preliminary engineering, please indicate which of the following activities have been completed as of the date of application submission:
|  |  | • Environmental Assessments.
|  |  | • Topographic Surveys.
|  |  | • Metes and Bounds Surveys.
|  |  | • Geotechnical Investigations.
|  |  | • Hydrologic Analysis.
|  |  | • Utility Engineering.
|  |  | • Traffic Studies.
|  |  | • Financial Plans.
|  |  | • Revenue Estimates.
|  |  | • Hazardous Materials Assessments.
|  |  | • General estimates of the types and quantities of materials.
|  |  | • Other work needed to establish parameters for the final design.
|  |  | If one or more of these studies was included in a larger plan or document not described above, please explicitly state that and reference the document. The Department will base its determination on the assessment by technical capacity evaluators.
(5) With respect to related non-federal financial commitments, 1 or more stable and dependable sources of funding and financing are available to construct, maintain, and operate the project, and contingency amounts are available to cover unanticipated cost increases | (4) With respect to non-federal financial commitments, 1 or more stable and dependable sources are available to construct, operate, and maintain the project, and to cover cost increases | No statutory requirement | Please indicate funding source(s) and amounts that will account for all project costs, broken down by independent project component, if applicable. Demonstrate that the funding is stable, dependable, and dedicated to this specific project by referencing the STIP/TIP, a letter of commitment, a local government resolution, memorandum of understanding, or similar documentation. Please state the contingency amount available for the project. The Department will base its determination on an assessment of this information by financial completeness evaluators. The Department will base its determination on an assessment of this information by financial completeness evaluators.
(6) The project cannot be easily and efficiently completed without other Federal funding or financing available to the project sponsor | (2) The project is in significant need of Federal funding | No statutory requirement | Describe the potential negative impacts on the proposed project if the MPDG grant (or other Federal funding) was not awarded. Respond to the following: 1. How would the project scope be affected if MPDG (or other Federal funds) were not received? 2. How would the project schedule be affected if MPDG (or other Federal funds) were not received? 3. How would the project cost be affected if MPDG (or other Federal funds) were not received?
|  |  | If there are no negative impacts to the project scope, schedule, or budget if MPDG funds are not received, state that explicitly. Impacts to a portfolio of projects will not satisfy this requirement; please describe only project- specific impacts. Re-stating the project's importance for national or regional economic, mobility, or safety will not satisfy this requirement. The Department will base its determination on an assessment of this information by program evaluators.
(7) The project is reasonably expected to begin not later than 18 months after the date of obligation of funds for the project | (5) The applicant have, or will have, sufficient legal, financial, and technical capacity to carry out the project | (5) The project is reasonably expected to begin not later than 18 months after the date of obligation of funds for the project | Please provide expected obligation date and construction start date, referencing project budget and schedule as needed. If the project has multiple independent components, or will be obligated and constructed in multiple phases, please provide sufficient information to show that each component meets this requirement. The Department will base its determination on the project risk rating as assessed according to the Project Readiness consideration. The Department will base its determination on the project risk as assessed by the Environmental Risk, Financial Completeness, and Technical Capacity evaluators.

For an INFRA small project to be selected, the Department must consider the cost effectiveness of the proposed project, the effect of the proposed project on mobility in the State and region in which the project is carried out, and the effect of the proposed project on safety on freight corridors with significant hazards such as high winds, heavy snowfall, flooding, rockslides, mudslides, wildfire, wildlife crossing onto the roadway, or steep grades. If an applicant seeks an award for an INFRA small project, it should use this section to provide information on the project's cost effectiveness, including by summarizing the results of the benefit-cost analysis for the project, and the project's effect on the mobility in its State and region, and the effect of the proposed project on safety of freight corridors with significant hazards, or refer to where else the information can be found in the application.

3. Unique Entity Identifier and System for Award Management (SAM)

Each applicant must: (1) Be registered in SAM before submitting its application; (2) provide a valid unique entity identifier in its application; and (3) continue to maintain an active SAM registration with current information at all times during which it has an active Federal award or an application or plan under consideration by a Federal awarding agency. The Department may not make an MPDG grant to an applicant until the applicant has complied with all applicable unique entity identifier and SAM requirements and, if an applicant has not fully complied with the requirements by the time the Department is ready to make an MPDG grant, the Department may determine that the applicant is not qualified to receive an MPDG grant and use that determination as a basis for making an MPDG grant to another applicant.

4. Submission Dates and Times

Applications must be submitted by 11:59 p.m. EDT May 23, 2022. The Grants.gov “Apply” function will open by March 25, 2022. To submit an application through Grants.gov, applicants must:

(1) Obtain a Unique Entity Identifier (UEI) number; ¹⁷

¹⁷ On April 4, 2022 the Federal government will stop using the Data Universal Numbering System (DUNS) number to uniquely identify entities. At that point, entities doing business with the Federal government will use a Unique Entity Identifier (UEI) created in SAM.gov. If your entity is currently registered in SAM.gov, your UEI has already been assigned and is viewable in SAM.gov. This includes inactive registrations.

(2) Register with the System for Award Management (SAM) at www.sam.gov;

(3) Create a Grants.gov username and password; and

(4) The E-business Point of Contact (POC) at the applicant's organization must also respond to the registration email from Grants.gov and login at Grants.gov to authorize the POC as an Authorized Organization Representative (AOR). Please note that there can only be one AOR per organization.

Please note that the Grants.gov registration process usually takes 2-4 weeks to complete and that the Department will not consider late applications that are the result of failure to register or comply with Grants.gov applicant requirements in a timely manner. For information and instruction on each of these processes, please see instructions at http://www.grants.gov/web/grants/applicants/applicant-faqs.html. If applicants experience difficulties at any point during the registration or application process, please call the Grants.gov Customer Service Support Hotline at 1(800) 518-4726.

5. Funding Restrictions

i. Mega

BIL specifies that 50 percent of available Mega funds are set aside for projects between $100 million and $500 million in cost. The remaining available Mega funds, less 2 percent for program administration, are for projects greater than $500 million in cost.

ii. INFRA

The Department will make awards under the INFRA program to both large and small projects (refer to section C.5.ii for a definition of large and small projects). For a large project, BIL specifies that an INFRA grant must be at least $25 million. For a small project, including both construction awards and project development awards, the grant must be at least $5 million. For each fiscal year of INFRA funds, a minimum of 15 percent of available funds are reserved for small projects, and a maximum of 85 percent of funds are reserved for large projects.

The program statute specifies that not more than 30 percent of INFRA grants for each of the fiscal years 2022 to 2026 may be used for grants to freight rail, water (including ports and marine highway corridors), other freight intermodal projects that make significant improvements to freight movement on the National Highway Freight Network or National Multimodal Freight Network, wildlife crossing projects, projects located within or functionally connected to an international border crossing area in the United States, improves a transportation facility owned by a Federal, State, or local government entity, and projects that increase the throughput efficiency of border crossings. As much as $482 million may be available within this provision. Only the nonhighway portion(s) of multimodal projects count toward this limit.

Grade crossing and grade separation projects do not count toward the limit for freight rail, port, and intermodal projects. The Department may award less than the full amount available under this provision.

The program statute requires that at least 25 percent of the funds provided for INFRA large project grants must be used for projects located in rural areas, as defined in Section C.6 The program statute requires that at least 30 percent of the funds provided for INFRA small project grants must be used for projects located in rural areas, as defined in Section C.6. The Department may elect to go above that threshold. The USDOT must consider geographic diversity among grant recipients, including the need for a balance in addressing the needs of urban and rural areas.

BIL specifies that $150 million in available INFRA funding for each of the fiscal years 2022 to 2026 be set aside for an INFRA Leverage Pilot program. The INFRA Leverage Pilot program will fund projects with a Federal share of less than 50 percent. Not less than 10 percent of the INFRA Leverage Pilot funds will be awarded to small INFRA projects, as defined in Section C.5.ii.(b), and not less than 25 percent of the INFRA Leverage Pilot funds will be awarded to rural projects, as defined in Section C.6.

iii. Rural

The Department will make awards under the Rural program. All funding under this program will be awarded to projects defined as rural projects, as defined in Section C.6. BIL specifies that at least 90 percent of Rural grant amounts must be at least $25 million, and up to 10 percent of Rural grants may be for grant amounts of less than $25 million. BIL specifies that 15 percent of the Rural program funds shall be reserved for eligible projects located in States that have rural roadway fatalities as a result of lane departures that are greater than the average of rural roadway fatalities as a result of lane departures in the United States.¹⁸ This is defined based on five-year rolling average of rural roadway departure fatality rate per 100 million VMT. BIL specifies that 25 percent of the Rural program funds shall be reserved for eligible projects that further the completion of designated routes of the Appalachian Development Highway System under section 14501 of title 40 U.S.C.

¹⁸ States with above average rural roadway departure fatalities (based on five-year rolling average of rural roadway departure fatality rate per 100 million VMT) include: Alabama; Alaska; Arkansas; Idaho; Iowa; Kansas; Kentucky; Louisiana; Maine; Mississippi; Missouri; Montana; Nebraska; New Mexico; North Carolina; North Dakota; Oklahoma; Oregon; South Carolina; South Dakota; Tennessee; Vermont; West Virginia; Wyoming.

6. Other Submission Requirements

a. Consideration of Application

Only applicants who comply with all submission deadlines described in this notice and submit applications through Grants.gov will be eligible for award. Applicants are strongly encouraged to make submissions in advance of the deadline.

b. Late Applications

Applications received after the deadline will not be considered except in the case of unforeseen technical difficulties outlined below.

c. Late Application Policy

Applicants experiencing technical issues with Grants.gov that are beyond the applicant's control must contact MPDGrants@dot.gov prior to the application deadline with the user name of the registrant and details of the technical issue experienced. The applicant must provide:

1. Details of the technical issue experienced;

2. Screen capture(s) of the technical issues experienced along with corresponding Grants.gov “Grant tracking number”;

3. The “Legal Business Name” for the applicant that was provided in the SF-424;

4. The AOR name submitted in the SF-424;

5. The UEI number associated with the application; and

6. The Grants.gov Help Desk Tracking Number.

To ensure a fair competition of limited competitive funds, the following conditions are not valid reasons to permit late submissions: (1) Failure to complete the registration process before the deadline; (2) failure to follow Grants.gov instructions on how to register and apply as posted on its website; (3) failure to follow all the instructions in this notice of funding opportunity; and (4) technical issues experienced with the applicant's computer or information technology environment. After the Department reviews all information submitted and contacts the Grants.gov Help Desk to validate reported technical issues, the Department staff will contact late applicants to approve or deny a request to submit a late application through Grants.gov. If the reported technical issues cannot be validated, late applications will be rejected as untimely.

E. Application Review Information

1. Criteria

i. Overall Application Rating

The Department will assign each eligible project a rating of highly recommended, recommended, or not recommended for each of the grant programs for which the applicant is applying. The rating will be assigned by the Department on the following basis:

A rating of “Not Recommended” will be assigned to projects that:

• The Department determines do not meet one or more statutory requirements for award, or additional information is required for one or more statutory requirements; or

• Receive a low rating in one or more of project outcome, economic analysis, or project readiness; or

• Are otherwise identified by the Senior Review Team to not be suitable for a grant award based on its weakness within a Project Outcome Area.

A rating of “Highly Recommended” will be assigned to projects that:

• The Department determines meet all statutory requirements for award and receive high ratings in all of project outcomes, economic analysis, and project readiness; or

• Meet all statutory requirements for award and are otherwise determined by the Senior Review Team to be an exemplary project of national or regional significance that generates significant benefits in one of the project outcome areas.

A rating of “Recommended” will be assigned to projects that:

• The Department determines meet all statutory requirements for award; and

• Are not otherwise assigned a “Highly Recommended or “Not Recommended” rating.

ii. Project Outcome Criteria

The Department will consider the extent to which the project addresses the following project outcome criteria, which are explained in greater detail below and reflect the key program objectives described in Section D.V: (1) Safety; (2) state of good repair; (3) economic impacts, freight movement, and job creation; (4) climate change, resiliency, and the environment; (5) equity, multimodal options, and quality of life; and (6) innovation areas: technology, project delivery, and financing. For each project outcome area, the Project Outcome Analysis team will assign a 0, 1, 2, or 3 according to the guidelines below.

| 0 | 1 | 2 | 3
Rating Scale | The project negatively affects this outcome area OR the application contains insufficient information to assess this outcome area | The project's claimed benefits in this outcome area are plausible but minimal OR the project's claimed benefits in this area are not plausible | The project has clear and direct benefits in this outcome area stemming from adopting common practices for planning, designing or building infrastructure | The project has clear and direct, data-driven, and significant benefits in this outcome area, that are well supported by the evidence in the application

The Department is neither weighting these criteria nor is a project required to score highly in each criterion, but project sponsors are encouraged to propose projects that score highly in as many areas as possible. The Department will assign a high, medium-high, medium, medium-low, and low project outcome rating on the following basis:

Score | Rating
At least three 3's, no 0's | High.
At least one 3, no 0's | Medium-High.
No 3's, no 0's | Medium.
No more than one 0 | Medium-Low.
Two or more 0's | Low.

Criterion #1: Safety

The Department will assess how the project targets a known safety problem and seeks to protect motorized and non-motorized travelers and communities, including vulnerable users, from health and safety risks. The Department will consider the project's estimated impacts on the number, rate, and consequences of crashes, fatalities and serious injuries among transportation users; the degree to which the project addresses vulnerable roadway users; and the degree to which the project addresses inequities in crash victims; the project's incorporation of roadway design and technology that is proven to improve safety. Applicants are encouraged to support actions and activities identified in the National Roadway Safety Strategy (National Roadway Safety Strategy | US Department of Transportation).¹⁹

¹⁹ https://www.transportation.gov/NRSS https://www.transportation.gov/NRSS.

The Department is also focused on the national priority of addressing the shortage of long-term parking for commercial motor vehicles on the National Highway System. Projects which increase access to truck parking generate safety benefits for motorized and non-motorized users as well as commercial vehicle operators.

Score | Safety criterion | Example
0 | The project negatively impacts this project outcome area |
1 | The project's claimed benefits in this outcome area are plausible but minimal OR the project's claimed benefits in this area are not plausible | Example: The project will result in minimal improvements to safety, with little impact on the number of crashes, fatalities, or serious injuries to the traveling public.
2 | The project produces nontrivial, positive benefits in this outcome area that are well supported by the evidence in the application | Example: The project results in measurable reductions in crashes, fatalities, or serious injuries to the traveling public, including vulnerable roadway users, by adopting actions and activities identified in the National Roadway Safety Strategy.
3 | The project produces significant, transformative benefits in this outcome area, that are well supported by the evidence in the application | Example: The project targets a well-known safety problem; results in a significant reduction in fatalities or serious injuries to motorized and nonmotorized users. The project incorporates innovative roadway design or technology aimed at protecting the health and safety of vulnerable roadway users.

Criterion #2: State of Good Repair

DOT will assess whether and to what extent the project: (1) Is consistent with relevant plans to maintain transportation facilities or systems in a state of good repair, including Department-required asset management plans; and (2) addresses current and projected vulnerabilities that, if left unimproved, will threaten future transportation network efficiency, mobility of goods or accessibility and mobility of people, or economic growth. The Department will also consider whether the project includes a plan to maintain the transportation infrastructure built with grant funds in a state of good repair. The Department will prioritize projects that ensure the good condition of transportation infrastructure, including rural transportation infrastructure, and support commerce and economic growth. Projects that represent routine or deferred maintenance will be less competitive in this criterion. Per FHWA's published Policy on Using Bipartisan Infrastructure Law Resources to Build a Better America,²⁰ the Department encourages applicants to improve the condition and safety of existing State and locally-owned transportation infrastructure within the right-of-way.

²⁰ https://www.fhwa.dot.gov/bipartisan-infrastructure-law/docs/building_a_better_america-policy_framework.pdf.

Score | State of good repair criterion | Example
0 | The project negatively impacts this project outcome area |
1 | The project's claimed benefits in this outcome area are plausible but minimal OR the project's claimed benefits in this area are not plausible | Example: The project is identified in the sponsor's Asset Management Plan, but it is difficult to verify that the infrastructure asset will operate at a full level of performance after the project improvements.
2 | The project produces nontrivial, positive benefits in this outcome area that are well supported by the evidence in the application | Example: The project is identified in the sponsor's Asset Management Plan and will repair or rebuild an infrastructure asset so that will operate at a full level of performance.
3 | The project produces significant, transformative benefits in this outcome area, that are well supported by the evidence in the application | Example: The project is identified in the sponsor's Asset Management Plan, will repair or rebuild an infrastructure asset so that will operate at a full level of performance, and is designed to significantly reduce future operation and maintenance costs throughout the asset life, beyond the costs saved from the initial project expenditure, and/or that will significantly lengthen the standard useful life of the asset.

Criterion #3: Economic Impacts, Freight Movement, and Job Creation

The Department will assess the degree to which the project contributes to one or more of the following outcomes (1) improve system operations to increase travel time reliability and manage travel demand for goods movement, especially strengthening the resilience and expanding the capacity of critical supply chain bottlenecks, to promote economic security and improve local and regional freight connectivity to the national and global economy; (2) improve multimodal transportation systems that incorporate affordable transportation options such as public transit to improve mobility of people and goods; (3) decrease transportation costs and improve access, through reliable and timely access, to employment centers and job opportunities; (4) offer significant regional and national improvements in economic strength by increasing the economic productivity of land, capital, or labor, and improving the economic strength of regions and cities; (5) enhance recreational and tourism opportunities by providing access to Federal land, national parks, national forests, national recreation areas, national wildlife refuges, wilderness areas, or State parks; (6)) result in high quality job creation by supporting good-paying jobs with a free and fair choice to join a union, in project construction and in on-going operations and maintenance, and incorporate strong labor standards, such as through the use of project labor agreements, registered apprenticeship programs, and other joint labor-management training programs; ²¹ (7) result in workforce opportunities for historically underrepresented groups, such as through the use of local hire provisions or other workforce strategies targeted at or jointly developed with historically underrepresented groups, to support project development; (8) foster economic growth and development while creating long-term high quality jobs, while addressing acute challenges, such as energy sector job losses in energy communities as identified in the report released in April 2021 by the interagency working group established by section 218 of Executive Order 14008; (9) Support integrated land use, economic development, and transportation planning to improve the movement of people and goods and local fiscal health, and facilitate greater public and private investments and strategies in land-use productivity, including rural main street revitalization or increase in the production or preservation of location-efficient housing or (10) help the United States compete in a global economy by encouraging the location of important industries and future innovations and technology in the U.S. and facilitating efficient and reliable freight movement.

²¹ https://www.apprenticeship.gov/.

Score | Economic impacts, freight movement, and job creation criterion | Example
0 | The project negatively impacts this project outcome area |
1 | The project's claimed benefits in this outcome area are plausible but minimal OR the project's claimed benefits in this area are not plausible | Example 1: The project sponsor provides some justification, but with minimal evidence, that the project will help to positively impact regional economic development in the area or help to offset job losses in the area.
|  | Example 2: The project sponsor provides minimal evidence that the project will create high quality jobs with a free choice to join a union or the incorporation of strong labor standard and practice, such as project labor agreements, use of registered apprenticeships or other joint labor-management training programs, and the use of an appropriately credentialed workforce.
2 | The project produces nontrivial, positive benefits in this outcome area that are well supported by the evidence in the application | Example 1: The project sponsor demonstrates some or limited new short-term or long-term job creation as a result of the project and it is documented by a signed letter from a business(es) stating the amount of new jobs to be created, and how the project is vital to the creation of those jobs. Example 2: The project opens additional new tourism or recreational access and is aligned with a plan that demonstrates that intention. Example: 3: The project sponsor demonstrates some evidence that the project will create high quality jobs with a free choice to join a union or the incorporation of strong labor standard and practice, such as project labor agreements, use of registered apprenticeships or other joint labor-management training programs, and the use of an appropriately credentialed workforce.
3 | The project produces significant, transformative benefits in this outcome area, that are well supported by the evidence in the application | Example 1: The project sponsor demonstrates that the project addresses a national supply chain bottleneck, the main goal of the project is to positively impact that bottleneck, and ample evidence is provided that shows significant national supply chain benefits from the project. Example 2: The project sponsor demonstrates significant creation of good-paying jobs with a free and fair choice to join a union and the incorporation of strong labor standards and practices, such as project labor agreements, use of registered apprenticeships or other joint labor-management training programs, and the use of an appropriately credentialed workforce. This can be documented by a signed letter for a labor union, or worker organization that describes the number and characteristics of high-quality jobs on the project.

Criterion #4: Climate Change, Resiliency, and the Environment

The Department will consider the extent to which the project incorporates considerations of climate change and environmental justice in the planning stage and in project delivery, such as through incorporation of specific design elements that address climate change impacts. The Department will evaluate the degree to which the project is expected to reduce transportation-related pollution such as air pollution and greenhouse gas emissions, increase use of lower-carbon travel modes such as transit and active transportation, improve the resilience of at-risk infrastructure to climate change and other natural hazards, incorporate lower-carbon pavement and construction materials, or address the disproportionate negative environmental impacts of transportation on disadvantaged communities. DOT will evaluate the extent which the project prevents stormwater runoff that would be a detriment to aquatic species. The Department will also consider whether the project will promote energy efficiency, support fiscally responsible land use and transportation efficient design, facilitate the production or preservation of location-efficient affordable housing, incorporate electrification or zero emission vehicle infrastructure, increase resiliency and recycle or redevelop brownfield sites, particularly in communities that disproportionally experience climate-change-related consequences. The Department will consider whether projects in floodplains are upgraded consistent with the Federal Flood Risk Management Standard, to the extent consistent with current law, in Executive Order 14030 Climate-Related Financial Risk (86 FR 27967,) and Executive Order 13690, Establishing a Federal Flood Risk Management Standard and a Process for Further Soliciting and Considering Stakeholder Input (80 FR 6425.)

The Department will assess whether the project has addressed environmental sustainability, including but not limited to consideration of the following examples:

(1) The project results in greenhouse gas emissions reductions relative to a no-action baseline;

(2) A Local/Regional/State Climate Action Plan that results in lower greenhouse gas emissions has been prepared and the project directly supports that Climate Action Plan;

(3) The regional transportation improvement program (TIP) or statewide transportation improvement program (STIP) is based on integrated land use and transportation planning and design that increases low-carbon mode travel, reduction of greenhouse gases and vehicle miles traveled or multimodal transportation choices and/or incorporates electrification or zero emission vehicle infrastructure.

(4) The project sponsor has used environmental justice tools such as the EJSCREEN to minimize adverse impacts to environmental justice communities (https://ejscreen.epa.gov/mapper/);

(5) A Local/Regional/State Energy Baseline Study has been prepared and the project directly supports that study;

(6) The project supports a modal shift in freight (e.g., from highway to rail) or passenger movement (e.g., from driving to transit, walking, and/or cycling) to reduce emissions. The project utilizes demand management strategies to reduce congestion, induced travel demand, and greenhouse gas emissions;

(7) The project incorporates electrification infrastructure (e.g., installation of electric vehicle charging stations, zero-emission vehicle infrastructure, or both);

(8) The project promotes energy efficiency;

(9) The project serves the renewable energy supply chains;

(10) The project improves disaster preparedness and resilience to all hazards;

(11) The project avoids adverse environmental impacts to air or water quality, wetlands, and endangered species, such as through reduction in Clean Air Act criteria pollutants and greenhouse gases, improved stormwater management, or improved habitat connectivity;

(12) The project repairs existing dilapidated or idle infrastructure that is currently causing environmental harm (e.g., brownfield redevelopment);

(13) The project supports or incorporates the construction of energy- and location-efficient buildings, including residential or mixed-use development; or

(14) The project proposes recycling of materials, use of materials known to reduce or reverse carbon emissions, or both.

Score | Climate change, resiliency, and the environment criterion | Example
0 | The project negatively impacts this project outcome area.
1 | The project's claimed benefits in this outcome area are plausible but minimal OR the project's claimed benefits in this area are not plausible | Example: A Local/Regional/State Climate Action Plan has been prepared but it is difficult to verify with the information provided how the actual project would directly positively impact climate or resiliency.
2 | The project produces nontrivial, positive benefits in this outcome area that are well supported by the evidence in the application | Example 1: The project demonstrates some greenhouse gas emission reduction. Example 2: The project sponsor demonstrates that one of the goals of the project is to improve or enhance resiliency of at-risk infrastructure.
3 | The project produces significant, transformative benefits in this outcome area, that are well supported by the evidence in the application | Example 1: The project significantly reduces transportation-related air pollution and greenhouse gas emissions from uncoordinated land-use decisions. Example 2: The project sponsor demonstrates that the main goal of the project is to improve or enhance resiliency of at-risk infrastructure and the sponsor has provided ample evidence of increased climate impacts to the project area. Example 3: The project incorporates electrification or zero emission vehicle infrastructure.

Criterion #5: Equity, Multimodal Options, and Quality of Life

The Department will consider the extent to which the project improves quality of life in rural areas or urbanized areas. This may include projects that:

(1) Increase affordable and accessible transportation choices and equity for individuals, including disadvantaged communities;

(2) improve access to emergency care, essential services, healthcare providers, or drug and alcohol treatment and rehabilitation centers;

(3) reduce transportation and housing cost burdens, including through public and private investments to support greater commercial and mixed-income residential development near public transportation, along rural main streets or in walkable neighborhoods;

(4) increase the walkability and accessibility for pedestrians and encourage thriving communities for individuals to work, live, and play by creating transportation choices for individuals to move freely with or without a car;

(5) enhance the unique characteristics of the community;

(6) proactively address equity ²² or other disparities and barriers to opportunity, through the planning process or through incorporation of design elements;

²² Definitions for “equity” and “underserved communities” are found in Executive Order 13985, Advancing Racial Equity and Support for Underserved Communities Through the Federal Government, Sections 2(a) and (b).

(7) have engaged, or will engage, diverse people and communities and demonstrate that equity considerations and community input and ownership, particularly among disadvantaged communities, are meaningfully integrated into planning, development, and implementation of transportation investments. Competitive applications should demonstrate strong collaboration and support among a broad range of stakeholders, including community-based organizations, other public or private entities, and labor unions; or

(8) support a Local/Regional/State Equitable Development Plan.

The Department will consider the extent to which the project benefits a historically disadvantaged community or population, or areas of persistent poverty.

(a) In this context, Areas of Persistent Poverty means: (1) Any county that has consistently had greater than or equal to 20 percent of the population living in poverty during the 30-year period preceding November 15, 2021, as measured by the 1990 and 2000 ²³ decennial census and the most recent annual Small Area Income Poverty Estimates as estimated by the Bureau of the census; ²⁴ (2) any census tract with a poverty rate of at least 20 percent as measured by the 2014-2018 5-year data series available from the American Community Survey of the Bureau of the Census; ²⁵ or (3) any territory or possession of the United States. A county satisfies this definition only if 20 percent of its population was living in poverty in all three of the listed datasets: (a) The 1990 decennial census; (b) the 2000 decennial census; and (c) the 2020 Small Area Income Poverty Estimates. This definition is the same as the definition used for the RAISE program. The Department lists all counties and census tracts that meet this definition for Areas of Persistent Poverty at https://datahub.transportation.gov/stories/s/tsyd-k6ij.

²³ See https://www.census.gov/data/tables/time-series/dec/census-poverty.html for county dataset.

²⁴ See https://www.census.gov/data/datasets/2020/demo/saipe/2020-state-and-county.html for December 2020 Small Area Income Poverty Dataset.

²⁵ See https://data.census.gov/cedsci/table?q=ACSST1Y2018.S1701&tid=ACSST5Y2018.S1701&hidePreview=false for 2014-2018 five year data series from the American Community Survey.

(b) Historically Disadvantaged Communities—The Department has developed a definition of Historically Disadvantaged Communities as part of its implementation of the Justice40 Initiative and will use that definition for the purpose of this Notice of Funding Opportunity. Consistent with OMB's Interim Guidance for the Justice40 Initiative,²⁶ Historically Disadvantaged Communities include (a) certain qualifying census tracts, (b) any Tribal land, or (c) any territory or possession of the United States. This definition is the same as the definition used for the RAISE program. The Department is providing a list of census tracts that meet the definition of Historically Disadvantaged Communities, as well as a mapping tool to assist applicants in identifying whether a project is located in a Historically Disadvantaged Community, available at https://datahub.transportation.gov/stories/s/tsyd-k6ij.

²⁶ https://www.whitehouse.gov/wp-content/uploads/2021/07/M-21-28.pdf.

The Department will assess whether the project proactively addresses equity and barriers to opportunity, including but not limited to the following examples:

(1) An equity impact analysis has been completed for the project;

(2) The project sponsor has adopted an equity and inclusion program/plan or has otherwise instituted equity-focused policies related to project procurement, material sourcing, construction, inspection, hiring, or other activities designed to ensure equity in the overall project delivery and implementation;

(3) The project includes comprehensive planning and policies to promote hiring of underrepresented populations including local and economic hiring preferences and investments in high-quality workforce development programs with supportive services, including labor-management programs, to help train, place, and retain people in good-paying jobs or registered apprenticeship.

(4) The project includes physical-barrier-mitigating land bridges, caps, lids, linear parks, and multimodal mobility investments that either redress past barriers to opportunity or that proactively create new connections and opportunities for underserved communities that are underserved by transportation;

(5) The project includes new or improved walking and bicycling infrastructure, reduces automobile dependence, and improves access for people with disabilities and proactively incorporates Universal Design; ²⁷

²⁷ “Universal design” is a concept in which products and environments are designed to be usable by all people, to the greatest extent possible, without the need for adaptation or specialized design. For more information: https://www.section508.gov/develop/universal-design/.

(6) The project includes new or improved freight access to underserved communities to increase access to goods and job opportunities for those underserved communities; or

(7) The project addresses automobile dependence as a form of barrier to opportunity.

The Department will also consider the extent to which the project benefits a Historically Disadvantaged Community or population, or Areas of Persistent Poverty, as defined in Section C of this Notice.

Score | Equity, multimodal options, and quality of life criterion | Example
0 | The project negatively impacts this project outcome area.
1 | The project's claimed benefits in this outcome area are plausible but minimal OR the project's claimed benefits in this area are not plausible | Example 1: The project sponsor has developed and published a general equity policy statement for their agency but have not demonstrated any other equity considerations for the actual project. Example 2: The project sponsor has created additional multimodal access in conjunction with the project, but only as a minimum project requirement, and not as a result of intentional planning efforts.
2 | The project produces nontrivial, positive benefits in this outcome area that are well supported by the evidence in the application | Example: The project sponsor is supporting workforce development programs, including labor-management programs, local hire provisions and incorporating workforce strategy into project development in a manner that produces non-trivial benefits.
3 | The project produces significant, transformative benefits in this outcome area, that are well supported by the evidence in the application | Example: The project sponsor includes new and/or greatly improved multimodal and transit access across previously bifurcated disadvantaged neighborhoods, and demonstrates how specifically the disadvantaged neighborhoods will be positively impacted, and how those improvements were as a result of intentional planning and public input.

Criterion #6: Innovation Areas: Technology, Project Delivery, and Financing

Consistent with the Department's Innovation Principles ²⁸ to support workers, to allow for experimentation and learn from failure, to provide opportunities to collaborate, and to be flexible and adapt as technology changes, the Department will assess the extent to which the applicant uses innovative and secure-by-design strategies, including: (1) Innovative technologies, (2) innovative project delivery, or (3) innovative financing.

²⁸ https://www.transportation.gov/priorities/innovation/us-dot-innovation-principles.

Innovative Technology: Consistent with the Department's Innovation Principles, the Department will assess innovative and secure-by-design technological approaches to transportation, particularly in relation to automated, connected, and electric vehicles and the detection, mitigation, and documentation of safety risks. When making grant award decisions, the Department will consider any innovative technological approaches proposed by the applicant, particularly projects that incorporate innovative technological design solutions, enhance the environment for connected, electric, and automated vehicles, or use technology to improve the detection, mitigation, and documentation of safety risks.

Innovative technological approaches may include, but are not limited to:

• Conflict detection and mitigation technologies (e.g., intersection alerts and signal prioritization);

• Dynamic signaling, smart traffic signals, or pricing systems to reduce congestion;

• Traveler information systems, to include work zone data exchanges;

• Signage and design features that facilitate autonomous or semi-autonomous vehicle technologies;

• Applications to automatically capture and report safety-related issues (e.g., identifying and documenting near-miss incidents);

• Vehicle-to-Everything (V2X) Technologies (e.g., technology that facilitates passing of information between a vehicle and any entity that may affect the vehicle);

• Vehicle-to-Infrastructure (V2I) Technologies (e.g., digital, physical, coordination, and other infrastructure technologies and systems that allow vehicles to interact with transportation infrastructure in ways that improve their mutual performance);

• Vehicle-to-Grid Technologies (e.g., technologies and infrastructure that encourage electric vehicle charging, and broader sustainability of the power grid);

• Cybersecurity elements to protect safety-critical systems;

• Broadband deployment and the installation of high-speed networks concurrent with the transportation project construction;

• Technology at land and seaports of entry that reduces congestion, wait times, and delays, while maintaining or enhancing the integrity of our border;

• Work Zone data exchanges or related data exchanges; or

• Other Intelligent Transportation Systems (ITS) that directly benefit the project's users or workers, such as a project to develop, establish, or maintain an integrated mobility management system, a transportation demand management system, or on-demand mobility services.

For innovative safety proposals, the Department will evaluate safety benefits that those approaches could produce and the broader applicability of the potential results. The Department will also assess the extent to which the project uses innovative technology that supports surface transportation to significantly enhance the operational performance of the transportation system. Please note that all innovative technology must be in compliance with 2 CFR 200.216.²⁹

²⁹ https://ecfr.federalregister.gov/current/title-2/subtitle-A/chapter-II/part-200/subpart-C/section-200.216.

Innovative Project Delivery: The Department will consider the extent to which the project utilizes innovative practices in contracting (such as public-private partnerships and single contractor design-build arrangements), congestion management, asset management, or long-term operations and maintenance.

The Department also seeks projects that employ innovative approaches to improve the efficiency and effectiveness of the environmental permitting and review to accelerate project delivery and achieve improved outcomes for communities and the environment. The Department's objective is to achieve timely and consistent environmental review and permit decisions. Participation in innovative project delivery approaches will not remove any statutory requirements affecting project delivery.

Innovative Financing: The Department will assess the extent to which the project incorporates innovations in transportation funding and finance through both traditional and innovative means, including by using private sector funding or financing or using congestion pricing or other demand management strategies to address congestion. This includes the use of non-traditional sources of transportation funding to leverage traditional federal sources of funding to expand the overall investment in transportation infrastructure.

Score | Innovation criterion | Example
0 | The project negatively impacts this project outcome area.
1 | The project's claimed benefits in this outcome area are plausible but minimal OR the project's claimed benefits in this area are not plausible | Example: The project references the incorporation of innovative technologies but does not elaborate on the benefits of those technologies or demonstrate how those technologies align with USDOT's innovation principles.
2 | The project produces nontrivial, positive benefits in this outcome area that are well supported by the evidence in the application | Example 1: The project incorporates some or limited amount of materials or construction processes that reduce greenhouse gas emissions. Example 2: The project incorporates innovative technology that advances USDOT innovation goals and employs innovative project delivery methods that will accelerate delivery and achieved improved outcomes.
3 | The project produces significant, transformative benefits in this outcome area, that are well supported by the evidence in the application | Example 1: The project incorporates a significant amount of materials or construction processes that reduce greenhouse gas emissions. Example 2: The project will generate significant benefits as a direct result of innovative technology, project delivery approaches, or innovative financing.

iii. Economic Analysis Rating

The Department will consider a project's benefits as compared to its costs to determine whether a project is cost effective and assign an economic analysis rating. To the extent possible, the Department will rely on quantitative, evidence-based and data-supported analysis, in this assessment. Based on the Department's assessment, the Department will assign an economic analysis rating of high, medium-high, medium, medium-low, or low according to the following table:

Rating | Description
High | The project's benefits will exceed its costs, with a benefit-cost ratio of at least 1.5.
Medium-High | The project's benefits will exceed its costs.
Medium | The project's benefits are likely to exceed its costs.
Medium-Low | The project's costs are likely to exceed its benefits.
Low | The project's costs will exceed its benefits.

iv. Project Readiness Rating

The Department will consider project readiness to assess the likelihood of a successful project. In that project readiness analysis, the Department will consider three evaluation ratings: Environmental Risk, Technical Assessment, and Financial Completeness Assessment. The application should contain a section that explicitly addresses Environmental Risk, but the Technical Assessment and Financial Completeness Assessment will be based on information contained throughout the application.

Environmental Risk assessment analyzes the project's environmental approvals and likelihood of the necessary approval affecting project obligation, and results in a rating of “high risk,” “moderate risk,” or “low risk.”

The Technical Assessment will be reviewed for all eligible applications and will assess the applicant's capacity to successfully deliver the project in compliance with applicable Federal requirements based on factors including the recipient's experience working with Federal agencies, civil rights compliance (including compliance with Title VI of the Civil Rights Act of 1964 and accompanying DOT regulations, the Americans with Disability Act, and Section 504 of the Rehabilitation Act), previous experience with Department discretionary grant awards and the technical experience and resources dedicated to the project. Technical Assessment ratings will be one of the following: “certain,” “somewhat certain,” “uncertain,” or “unknown.” Lack of previous project delivery according to Federal requirements is not sufficient justification for a rating of “uncertain,” but may result in a rating of “unknown.”

The Financial Completeness Assessment reviews the availability of matching funds and whether the applicant presented a complete funding package, and will receive a rating of “complete, “partially complete,” or “incomplete.” For projects that receive a rating of “complete” and include funding estimates that are based on early stages of design (e.g., less than 30 percent design) or outdated cost estimates, without specified contingency, evaluators may add a comment to note the potential for uncertainty in the estimated project costs. All applicants should describe a plan to address potential cost overruns.

The Project Readiness Ratings described above will be translated to a high, medium-high, medium, medium-low, or low rating, using the table below:

Rating | 1 | 2 | 3
Technical Assessment | Uncertain: The team is not confident in the applicant's capacity to deliver this project in a manner that satisfies Federal requirements | Somewhat Certain/Unknown: The team is moderately confident in the applicant's capacity to deliver the project in a manner that satisfies Federal requirements | Certain: The team is confident in the applicant's capacity to deliver the project in a manner that satisfies Federal requirements.
Financial Completeness | Incomplete Funding: The project lacks full funding, or one or more Federal or non-Federal match sources are still uncertain as to whether they will be secured in time to meet the project's construction schedule | Partially Complete/Appear Stable and Highly Likely to be Available: Project funding is not fully committed but appears highly likely to be secured in time to meet the project's construction schedule | Complete, Stable and Committed: The Project's Federal and non-Federal sources are fully committed—and there is demonstrated funding available to cover contingency/cost increases.
Environmental Review and Permitting Risk | High Risk: The project has not completed or begun NEPA and there are known environmental or litigation concerns associated with the project | Moderate Risk: The project has not completed NEPA or secured necessary Federal permits, and it is uncertain whether they will be able to complete NEPA or secure necessary Federal permits in the time necessary to meet their project schedule | Low Risk: The Project has completed NEPA or it is highly likely that they will be able to complete NEPA and other environmental reviews in the time necessary to meet their project schedule.

Score | Rating
All 3's | High.
Two 3's, one 2 | Medium-High.
One 3, two 2's | Medium.
All 2's | Medium-Low.
Any 1's | Low.

v. Additional Considerations

a. Geographic Diversity

By statute, when selecting MPDG projects, the Department must consider contributions to geographic diversity among recipients, including the need for a balance between the needs of rural and urban communities. The Department will consider whether the project is located in an Area of Persistent Poverty or a Historically Disadvantaged Community, as defined in Section C of this Notice.

The Department will also consider whether the project is located in the Department or Federally designated area such as a qualified opportunity zone, Empowerment Zone, Promise Zone, or Choice Neighborhood. Applicants can find additional information about each of the designated zones at the sites below:

• Opportunity Zones: (https://opportunityzones.hud.gov/)

• Empowerment Zones: (https://www.hud.gov/hudprograms/empowerment_zones)

• Promise Zones: (https://www.hud.gov/program_offices/field_policy_mgt/fieldpolicymgtpz)

• Choice Neighborhoods: (https://www.hud.gov/program_offices/public_indian_housing/programs/ph/cn)

A project located in a Federally designated community development zone is more competitive than a similar project that is not located in a Federally designated community development zone. The Department will rely on applicant-supplied information to make this determination and will only consider this if the applicant expressly identifies the designation in their application.

b. Evaluation of Project Requirements

The following describes how the Department will evaluate the statutory Project requirements for the MPDG opportunity.

1. The project will generate (or for Mega, “is likely to generate”) national or regional economic, mobility, or safety benefits (applicable for Mega, INFRA, and Rural).

A project meets this determination if the Project Outcome Analysis documents national or regional economic, mobility, or safety benefits.

2. The project will be cost effective (applicable for Mega, INFRA, and Rural).

The Department's determination will be based on its estimate of the project's benefits and costs: A project is determined to be cost effective if the Department estimates that the project's benefits will or are likely to exceed its costs.

3. The project will contribute to the accomplishment of one or more of the goals described in 23 U.S.C. 150 (applicable for INFRA and Rural).

A project meets this requirement if the Project Outcome Analysis documents benefits related to one of the following:

National Goals.—It is in the interest of the United States to focus the Federal-aid highway program on the following national goals:

(1) Safety.—To achieve a significant reduction in traffic fatalities and serious injuries on all public roads.

(2) Infrastructure condition.—To maintain the highway infrastructure asset system in a state of good repair.

(3) Congestion reduction.—To achieve a significant reduction in congestion on the National Highway System.

(4) System reliability.—To improve the efficiency of the surface transportation system.

(5) Freight movement and economic vitality.—To improve the national freight network, strengthen the ability of rural communities to access national and international trade markets, and support regional economic development.

(6) Environmental sustainability.—To enhance the performance of the transportation system while protecting and enhancing the natural environment.

(7) Reduced project delivery delays.—To reduce project costs, promote jobs and the economy, and expedite the movement of people and goods by accelerating project completion through eliminating delays in the project development and delivery process, including reducing regulatory burdens and improving agencies' work practices.

4. The project is based on the results of preliminary engineering (applicable for INFRA and Rural).

A project meets this requirement if the application provides evidence that at least one of the following activities has been completed at the time of application submission: Environmental assessments, topographic surveys, metes and bounds surveys, geotechnical investigations, hydrologic analysis, hydraulic analysis, utility engineering, traffic studies, financial plans, revenue estimates, hazardous materials assessments, general estimates of the types and quantities of materials, or other work needed to establish parameters for the final design.

5. With respect to related non-Federal financial commitments, one or more stable and dependable funding or financing sources are available to construct, maintain, and operate the project, and contingency amounts are available to cover unanticipated cost increases (applicable for Mega and INFRA).

A project meets this requirement if the application demonstrates that financing sources are dedicated to the proposed project and are highly likely to be available within the proposed project schedule, and if it provides evidence of contingency funding in the project budget.

6. The project cannot be easily and efficiently completed without other Federal funding or financial assistance available to the project sponsor (applicable to INFRA) —or— The project is in significant need of Federal funding (applicable to Mega).

A project meets this requirement if the application demonstrates one or more of the following:

(1) The project scope would be negatively affected if MPDG or other Federal funds were not received.

(2) The project schedule would be negatively affected if MPDG or other Federal funds were not received.

(3) The project cost would materially increase if MPDG or other Federal funds were not received.

7. The project is reasonably expected to begin construction no later than 18 months after the date of obligation of funds for the project (applicable to INFRA and Rural).

A project meets this requirement if the proposed project schedule and the evaluation of the project readiness evaluation team indicate that it is reasonably expected to begin construction not later than 18 months after obligation.

8. The applicant has, or will have, sufficient legal, financial, and technical capacity to carry out the project (applicable to Mega).

A project meets this requirement if the EMO team determines, based on the assessment of project readiness evaluation teams, that the applicant has sufficient legal, financial, and technical capacity to carry out the project, as described in Section E.

9. Small INFRA Projects (applicable to Small INFRA projects).

For Small INFRA projects to be selected, the Department must consider the cost effectiveness of the proposed project, the effect of the proposed project on mobility in the State and region in which the project is carried out, and the effect of the proposed project on safety on freight corridors with significant hazards, such as high winds, heavy snowfall, flooding, rockslides, mudslides, wildfire, wildlife crossing onto the roadway, or steep grades. The Department will consider a small INFRA project's cost effectiveness based on the results of the benefit-cost analysis submitted with the application. The Department will consider the effect of the proposed project on mobility as part of the Economic Impacts and Equity Project Outcome Areas. The Department will consider the effect on safety on freight corridors with significant hazards as part of the Climate, Safety, and Economic Impact Project Outcome areas.

vi. Previous Awards

The Department may consider whether the project has previously received an award from the RAISE, INFRA, or other departmental discretionary grant programs.

2. Review and Selection Process

Section E addresses the statutory requirement that the Department describe the methodology that will be used to determine if projects satisfy statutory project requirements, how they will be rated according to selection criteria and considerations, and how those criteria and considerations will be used to assign an overall rating.

The MPDG evaluation process consists of a Analysis Phase and Senior Review Phase. In the Analysis Phase, teams will, for each project, determine whether the project satisfies statutory requirements and rate how well it addresses the selection criteria using the rating system described in section E.1. If an applicant opts out of a specific program, then the Department will not consider whether the proposed project meets that program's requirements.

The Senior Review Team will consider the applications and the technical evaluations, assign an overall rating according to the methodology described above. Once every project has been assigned an overall rating for each program, The SRT will review if the list of Highly Recommended projects under each program is sufficient to satisfy program set-asides and geographic diversity requirements. If not, `Recommended' projects may be added to each program's proposed list of Projects for Consideration until each program's list can satisfy necessary program set asides and geographic diversity requirements. The SRT can add a Recommended project only if that project directly addresses an identified insufficiency related to the program set-asides, geographic diversity requirements, or to ensure there are sufficient projects to distribute all available funds, and the SRT treats all similarly situated Recommended projects the same.

For each program, the SRT will present the list of Projects for Consideration to the Secretary, either collectively or through a representative. The SRT may advise the Secretary on any project on the list of Projects for Consideration, including options for reduced awards, but the Secretary makes final project selections. The Secretary must prioritize selections from among the projects assigned a “Highly Recommended” Rating. The Secretary's selections identify the applications that best address program requirements and are most worthy of funding.

3. Additional Information

Prior to award, each selected applicant will be subject to a risk assessment as required by 2 CFR 200.206. The Department must review and consider any information about the applicant that is in the designated integrity and performance system accessible through SAM (currently the Federal Awardee Performance and Integrity Information System (FAPIIS)). An applicant may review information in FAPIIS and comment on any information about itself that a Federal awarding agency previously entered. The Department will consider comments by the applicant, in addition to the other information in FAPIIS, in making a judgment about the applicant's integrity, business ethics, and record of performance under Federal awards when completing the review of risk posed by applicants.

F. Federal Award Administration Information

1. Federal Award Notices

Following the evaluation outlined in Section E, the Secretary will announce awarded projects by posting a list of selected projects at https://www.transportation.gov/grants/mpdg-announcement. Following the announcement, the Department will contact the point of contact listed in the SF 424 to initiate negotiation of a project-specific agreement.

2. Administrative and National Policy Requirements

i. Safety Requirements

The Department will require MPDG projects to meet two general requirements related to safety. First, MPDG projects must be part of a thoughtful, data-driven approach to safety. Each State maintains a strategic highway safety plan.³⁰ MPDG projects will be required to incorporate appropriate elements that respond to priority areas identified in that plan and are likely to yield safety benefits. Second, MPDG projects will incorporate appropriate safety-related activities that the Federal Highway Administration (FHWA) has identified as “proven safety countermeasures” due to their history of demonstrated effectiveness.³¹

³⁰ Information on State-specific strategic highway safety plans is available at https://safety.fhwa.dot.gov/shsp/other_resources.cfm.

³¹ Information on FHWA proven safety countermeasures is available at: https://safety.fhwa.dot.gov/provencountermeasures/.

After selecting MPDG recipients, the Department will work with those recipients on a project-by-project basis to determine the specific safety requirements that are appropriate for each award.

ii. Program Requirements

(a) Climate Change and Environmental Justice Impact Consideration

Each applicant selected for MPDG grant funding must demonstrate effort to consider climate change and environmental justice impacts as described in Section A. Projects that have not sufficiently considered climate change and environmental justice in their planning, as determined by the Department, will be required to do so before receiving funds for construction, consistent with Executive Order 14008, Tackling the Climate Crisis at Home and Abroad (86 FR 7619).³²

³² An illustrative example of how these requirements are applied to recipients can be found here: https://cms.buildamerica.dot.gov/buildamerica/financing/infra-grants/infra-fy21-fhwa-general-terms-and-conditions.

(b) Equity and Barriers to Opportunity

Each applicant selected for MPDG grant funding must demonstrate effort to improve equity and reduce barriers to opportunity as described in Section A. Projects that have not sufficiently considered equity and barriers to opportunity in their planning, as determined by the Department, will be required to do so before receiving funds for construction, consistent with Executive Order 13985, Advancing Racial Equity and Support for Underserved Communities Through the Federal Government (86 FR 7009).³³

³³ An illustrative example of how these requirements are applied to recipients can be found here: https://cms.buildamerica.dot.gov/buildamerica/financing/infra-grants/infra-fy21-fhwa-general-terms-and-conditions.

(c) Labor and Work

Each applicant selected for MPDG grant funding must demonstrate, to the full extent possible consistent with the law, an effort to create good-paying jobs with the free and fair choice to join a union and incorporation of high labor standards as described in Section A. To the extent that applicants have not sufficiently considered job quality and labor rights in their planning, as determined by the Department of Labor, the applicants will be required to do so before receiving funds for construction, consistent with Executive Order 14025, Worker Organizing and Empowerment (86 FR 22829), and Executive Order 14052, Implementation of the Infrastructure Investment and Jobs Act (86 FR 64335).

As expressed in section A, equal employment opportunity is an important priority. The Department wants to ensure that project sponsors have the support they need to meet requirements under E.O. 11246, Equal Employment Opportunity (30 FR 12319, and as amended). All federally assisted contractors are required to make good faith efforts to meet the goals of 6.9% of construction project hours being performed by women and goals that vary based on geography for construction work hours and for work being performed by people of color.³⁴ The U.S. Department of Labor's Office of Federal Contract Compliance Programs (OFCCP) has a Mega Construction Project Program through which it engages with project sponsors as early as the design phase to help promote compliance with non-discrimination and affirmative action obligations. Through the program, OFCCP offers contractors and subcontractors extensive compliance assistance, conducts compliance evaluations, and helps to build partnerships between the project sponsor, prime contractor, subcontractors, and relevant stakeholders. OFCCP will identify projects that receive an award under this notice and are required to participate in OFCCP's Mega Construction Project Program from a wide range of federally assisted projects over which OFCCP has jurisdiction and that have a project cost above $35 million. DOT will require project sponsors with costs above $35 million that receive awards under this funding opportunity to partner with OFCCP, if selected by OFCCP, as a condition of their DOT award. Under that partnership, OFCCP will ask these project sponsors to make clear to prime contractors in the pre-bid phase that project sponsor's award terms will require their participation in the Mega Construction Project Program. Additional information on how OFCCP makes their selections for participation in the Mega Construction Project Program is outlined under “Scheduling” on the Department of Labor website: https://www.dol.gov/agencies/ofccp/faqs/construction-compliance.

³⁴ https://www.dol.gov/sites/dolgov/files/ofccp/ParticipationGoals.pdf.

(d) Critical Infrastructure Security and Resilience

It is the policy of the United States to strengthen the security and resilience of its critical infrastructure against both physical and cyber threats. Each applicant selected for MPDG grant funding must demonstrate, prior to the signing of the grant agreement, effort to consider and address physical and cyber security risks relevant to the transportation mode and type and scale of the project. Projects that have not appropriately considered and addressed physical and cyber security and resilience in their planning, design, and project oversight, as determined by the Department and the Department of Homeland Security, will be required to do so before receiving funds for construction, consistent with Presidential Policy Directive 21—Critical Infrastructure Security and Resilience and the National Security Presidential Memorandum on Improving Cybersecurity for Critical Infrastructure Control Systems.

iii. Other Administrative and Policy Requirements

All awards will be administered pursuant to the Uniform Administrative Requirements, Cost Principles and Audit Requirements for Federal Awards found in 2 CFR part 200, as adopted by the Department at 2 CFR part 1201. INFRA and Rural grant funds are made available under title 23 of the United States Code and generally subject to the requirements of that title. Consistent with 23 U.S.C. 117(l) and 173(o), for freight projects awarded INFRA grant funds and all projects award Rural grant funds, the project will be treated as if it is located on a Federal-aid highway. The Department will also treat non-Freight projects eligible for INFRA funding under 23 U.S.C. 117(c)(l)(A)(iv-vii) as though they are federal-aid highway projects for the purposes of applying federal requirements. For projects awarded Mega grant funds, the project will be treated in relation to project's modal nature: The requirements of title 23 shall apply to a highway, road or bridge project; the requirements of chapter 53 of title 49 of the United States Code shall apply to a transit project; the requirements of 49 U.S.C. 22905 shall apply to a rail project or component; and, the requirements of 49 U.S.C. 5333 shall apply to any public transportation component of a project. Additionally, as permitted under the requirements described above, applicable Federal laws, rules, and regulations of the relevant operating administration administering the project will apply to the projects that receive MPDG grants, including planning requirements, Stakeholder Agreements, and other requirements under the Department's other highway, transit, rail, and port grant programs.

As expressed in Executive Order 14005, Ensuring the Future Is Made in All of America by All of America's Workers (86 FR 7475), it is the policy of the executive branch to maximize, consistent with law, the use of goods, products, and materials produced in, and services offered in, the United States. The Mega, INFRA, and Rural programs are infrastructure programs subject to the Build America, Buy America Act (Pub. L. No 117-58, div. G §§ 70901-70927). All INFRA and Rural projects are subject to the Buy America requirement at 23 U.S.C. 313, as are Mega projects administered by the Federal Highway Administration. Mega projects administered by other OAs will be subject to the Buy America regime applicable to that OA. The Department expects all recipients to be able to complete their project without needing a waiver. However, to obtain a waiver, a recipient must be prepared to demonstrate how they will maximize the use of domestic goods, products, and materials in constructing their project.

The applicability of Federal requirements to a project may be affected by the scope of the NEPA reviews for that project. For example, under 23 U.S.C. 313(g), Buy America requirements apply to all contracts that are eligible for assistance under title 23, United States Code, and are carried out within the scope of the NEPA finding, determination, or decision regardless of the funding source of such contracts if at least one contract is funded with Title 23 funds. As another example, Americans with Disabilities Act (ADA) regulations apply to all projects funded under this Notice.

Recipients of Federal transportation funding will be required to comply fully with the ADA, Title VI of the Civil Rights Act of 1964, and all other civil rights requirements. The Department's and the applicable Operating Administrations' Office of Civil Rights may work with awarded projects to ensure full compliance with Federal civil rights requirements.

In connection with any program or activity conducted with or benefiting from funds awarded under this notice, recipients of funds must comply with all applicable requirements of Federal law, including, without limitation, the Constitution of the United States; the conditions of performance, nondiscrimination requirements, and other assurances made applicable to the award of funds in accordance with regulations of the Department of Transportation; and applicable Federal financial assistance and contracting principles promulgated by the Office of Management and Budget. In complying with these requirements, recipients, in particular, must ensure that no concession agreements are denied or other contracting decisions made on the basis of speech or other activities protected by the First Amendment. If the Department determines that a recipient has failed to comply with applicable Federal requirements, the Department may terminate the award of funds and disallow previously incurred costs, requiring the recipient to reimburse any expended award funds.

MPDG projects involving vehicle acquisition must involve only vehicles that comply with applicable Federal Motor Vehicle Safety Standards and Federal Motor Vehicle Safety Regulations, or vehicles that are exempt from Federal Motor Carrier Safety Standards or Federal Motor Carrier Safety Regulations in a manner that allows for the legal acquisition and deployment of the vehicle or vehicles.

3. Reporting

i. Progress Reporting on Grant Activity

Each applicant selected for an MPDG opportunity grant must submit the Federal Financial Report (SF-425) on the financial condition of the project and the project's progress, as well as an Annual Budget Review and Program Plan to monitor the use of Federal funds and ensure accountability and financial transparency in the MPDG opportunity. In addition, Mega grant recipients will be required to submit a data collection baseline and a Project Outcomes report, as described in Section C.5.i.(c).

ii. Reporting of Matters Related to Integrity and Performance

If the total value of a selected applicant's currently active grants, cooperative agreements, and procurement contracts from all Federal awarding agencies exceeds $10,000,000 for any period of time during the period of performance of this Federal award, then the applicant during that period of time must maintain the currency of information reported SAM that is made available in the designated integrity and performance system (currently the Federal Awardee Performance and Integrity Information System (FAPIIS)) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

iii. Program Evaluation

As a condition of grant award, grant recipients may be required to participate in an evaluation undertaken by DOT or another agency or partner. The evaluation may take different forms such as an implementation assessment across grant recipients, an impact and/or outcomes analysis of all or selected sites within or across grant recipients, or a benefit/cost analysis or assessment of return on investment. We may require applicants to collect data elements to aid the evaluation. As a part of the evaluation, as a condition of award, grant recipients must agree to: (1) Make records available to the evaluation contractor; (2) provide access to program records, and any other relevant documents to calculate costs and benefits; (3) in the case of an impact analysis, facilitate the access to relevant information as requested; and (4) follow evaluation procedures as specified by the evaluation contractor or DOT staff.

Recipients and subrecipients are also encouraged to incorporate program evaluation including associated data collection activities from the outset of their program design and implementation to meaningfully document and measure their progress towards meeting an agency priority goal(s). Title I of the Foundations for Evidence-Based Policymaking Act of 2018 (Evidence Act), Public Law 115-435 (2019) urges federal awarding agencies and federal assistance recipients and subrecipients to use program evaluation as a critical tool to learn, to improve equitable delivery, and to elevate program service and delivery across the program lifecycle. Evaluation means “an assessment using systematic data collection and analysis of one or more programs, policies, and organizations intended to assess their effectiveness and efficiency.” Evidence Act § 101 (codified at 5 U.S.C. 311). Credible program evaluation activities are implemented with relevance and utility, rigor, independence and objectivity, transparency, and ethics (OMB Circular A-11, Part 6 Section 290).

For grant recipients receiving an award, evaluation costs are allowable costs (either as direct or indirect), unless prohibited by statute or regulation, and such costs may include the personnel and equipment needed for data infrastructure and expertise in data analysis, performance, and evaluation. (2 CFR part 200).

G. Federal Awarding Agency Contacts

For further information concerning this notice, please contact the Office of the Secretary via email at MPDGrants@dot.gov. In addition, up to the application deadline, the Department will post answers to common questions and requests for clarifications on the Department's website at https://www.transportation.gov/grants/mpdg-frequently-asked-questions. To ensure applicants receive accurate information about eligibility or the program, the applicant is encouraged to contact the Department directly, rather than through intermediaries or third parties, with questions. Department staff may also conduct briefings on the MPDG Transportation grant selection and award process upon request.

H. Other Information

1. Protection of Confidential Business Information

All information submitted as part of, or in support of, any application shall use publicly available data or data that can be made public and methodologies that are accepted by industry practice and standards, to the extent possible. If the application includes information the applicant considers to be a trade secret or confidential commercial or financial information, the applicant should do the following: (1) Note on the front cover that the submission “Contains Confidential Business Information (CBI)”; (2) mark each affected page “CBI”; and (3) highlight or otherwise denote the CBI portions.

The Department protects such information from disclosure to the extent allowed under applicable law. In the event the Department receives a Freedom of Information Act (FOIA) request for the information, the Department will follow the procedures described in its FOIA regulations at 49 CFR 7.17. Only information that is ultimately determined to be confidential under that procedure will be exempt from disclosure under FOIA.

2. Publication of Application Information

Following the completion of the selection process and announcement of awards, the Department intends to publish a list of all applications received along with the names of the applicant organizations and funding amounts. Except for the information properly marked as described in Section H, the Department may make application narratives publicly available or share application information within the Department or with other Federal agencies if the Department determines that sharing is relevant to the respective program's objectives.

As required by statute the Department will also publish the overall rating for each project seeking Mega Project funds.

3. Department Feedback on Applications

The Department strives to provide as much information as possible to assist applicants with the application process. The Department will not review applications in advance, but Department staff are available for technical questions and assistance. To efficiently use Department resources, the Department will prioritize interactions with applicants who have not already received a debrief on their FY 2021 INFRA application. Program staff will address questions to MPDGrants@dot.gov throughout the application period.

4. Prohibition on Use of Funds To Support or Oppose Union Organizing

MPDG funds may not be used to support or oppose union organizing, whether directly or as an offset for other funds.

5. MPDG Extra, Eligibility and Designation

The MPDG Extra initiative is aimed at encouraging sponsors with competitive projects that do not receive an MPDG award to consider applying for TIFIA credit assistance.

Projects for which a MPDG application receives a Highly Recommended rating, as described in Section E, but that are not awarded, are automatically designated MPDG Extra Projects, unless the Department determines that they are not reasonably likely to satisfy the TIFIA project type (23 U.S.C. 601(a)(12)) and project size (23 U.S.C. 602(a)(5)) eligibilities. This designation provides the sponsors of these projects the opportunity to apply for TIFIA credit assistance for up to 49% of eligible project costs. Under current policy, TIFIA credit assistance is limited to 33% of eligible project costs unless the applicant provides strong rationale for requiring additional assistance.

Projects designated as MPDG Extra Projects will be announced by the Secretary after MPDG award announcements are made.

For further information about the TIFIA program in general, including details about the types of credit assistance available, eligibility requirements and the creditworthiness review process, please refer to the Build America Bureau Credit Programs Guide, available on the Build America Bureau website: https://www.transportation.gov/buildamerica/financing/program-guide.

Disclaimer: A MPDG Extra Project designation does not guarantee that an applicant will receive TIFIA credit assistance, nor does it guarantee that any award of TIFIA credit assistance will be equal to 49% of eligible project costs. Receipt of TIFIA credit assistance is contingent on the applicant's ability to satisfy applicable creditworthiness standards and other Federal requirements.

Issued in Washington, DC, on March 22, 2022.
Peter Paul Montgomery Buttigieg,
Secretary of Transportation.

[FR Doc. 2022-06350 Filed 3-24-22; 8:45 am]

BILLING CODE 4910-9X-P